DEPARTMENT OF HEALTH AND HUMAN SERVICES

Centers for Medicare & Medicaid Services

[CMS-9049-N]

Medicare and Medicaid Programs; Quarterly Listing of Program Issuances—July Through September 2008

AGENCY: Centers for Medicare & Medicaid Services (CMS), HHS.

ACTION: Notice.

SUMMARY: This notice lists CMS manual instructions, substantive and interpretive regulations, and other Federal Register notices that were published from July 2008 through September 2008, relating to the Medicare and Medicaid programs. This notice provides information on national coverage determinations (NCDs) affecting specific medical and health care services under Medicare. Additionally, this notice identifies certain devices with investigational device exemption (IDE) numbers approved by the Food and Drug Administration (FDA) that potentially may be covered under Medicare. This notice also includes listings of all approval numbers from the Office of Management and Budget for collections of information in CMS regulations and a list of Medicare-approved carotid stent facilities. Included in this notice is a list of the American College of Cardiology's National Cardiovascular Data registry sites, active CMS coverage-related guidance documents, and special one-time notices regarding national coverage provisions. Also included in this notice is a list of National Oncologic Positron Emissions Tomography Registry sites, a list of Medicare-approved ventricular assist device (destination therapy) facilities, a list of Medicare-approved lung volume reduction surgery facilities, a list of Medicare-approved clinical trials for fluorodeoxyglucose positron emissions tomography for dementia, and a list of Medicare-approved bariatric surgery facilities.

Section 1871(c) of the Social Security Act requires that we publish a list of Medicare issuances in the Federal Register at least every 3 months. Although we are not mandated to do so by statute, for the sake of completeness of the listing, and to foster more open and transparent collaboration efforts, we are also including all Medicaid issuances and Medicare and Medicaid substantive and interpretive regulations (proposed and final) published during this 3-month time frame.

FOR FURTHER INFORMATION CONTACT: It is possible that an interested party may need specific information and not be able to determine from the listed information whether the issuance or regulation would fulfill that need. Consequently, we are providing contact persons to answer general questions concerning these items. Copies are not available through the contact persons. (See Section III of this notice for how to obtain listed material.)

Questions concerning CMS manual instructions in Addendum III may be addressed to Ismael Torres, Office of Strategic Operations and Regulatory Affairs, Centers for Medicare & Medicaid Services, C4-26-05, 7500 Security Boulevard, Baltimore, MD 21244-1850, or you can call (410) 786-1864.

Questions concerning regulation documents published in the Federal Register in Addendum IV may be addressed to Gwendolyn Johnson, Office of Strategic Operations and Regulatory Affairs, Centers for Medicare & Medicaid Services, C4-14-03, 7500 Security Boulevard, Baltimore, MD 21244-1850, or you can call (410) 786-6954.

Questions concerning Medicare NCDs in Addendum V may be addressed to Patricia Brocato-Simons, Office of Clinical Standards and Quality, Centers for Medicare & Medicaid Services, C1-09-06, 7500 Security Boulevard, Baltimore, MD 21244-1850, or you can call (410) 786-0261.

Questions concerning FDA-approved Category B IDE numbers listed in Addendum VI may be addressed to John Manlove, Office of Clinical Standards and Quality, Centers for Medicare & Medicaid Services, C1-13-04, 7500 Security Boulevard, Baltimore, MD 21244-1850, or you can call (410) 786-6877.

Questions concerning approval numbers for collections of information in Addendum VII may be addressed to Melissa Musotto, Office of Strategic Operations and Regulatory Affairs, Regulations Development and Issuances Group, Centers for Medicare & Medicaid Services, C5-14-03, 7500 Security Boulevard, Baltimore, MD 21244-1850, or you can call (410) 786-6962.

Questions concerning Medicare-approved carotid stent facilities in Addendum VIII may be addressed to Sarah J. McClain, Office of Clinical Standards and Quality, Centers for Medicare & Medicaid Services, C1-09-06, 7500 Security Boulevard, Baltimore, MD 21244-1850, or you can call (410) 786-2994.

Questions concerning Medicare's recognition of the American College of Cardiology—National Cardiovascular Data Registry sites in Addendum IX may be addressed to JoAnna Baldwin, MS, Office of Clinical Standards and Quality, Centers for Medicare & Medicaid Services, C1-09-06, 7500 Security Boulevard, Baltimore, MD 21244-1850, or you can call (410) 786-7205.

Questions concerning Medicare's active coverage-related guidance documents in Addendum X may be addressed to Beverly Lofton, Office of Clinical Standards and Quality, Centers for Medicare & Medicaid Services, C1-09-06, 7500 Security Boulevard, Baltimore, MD 21244-1850, or you can call (410) 786-7136.

Questions concerning one-time notices regarding national coverage provisions in Addendum XI may be addressed to Beverly Lofton, Office of Clinical Standards and Quality, Centers for Medicare & Medicaid Services, C1-09-06, 7500 Security Boulevard, Baltimore, MD 21244-1850, or you can call (410) 786-7136.

Questions concerning National Oncologic Positron Emission Tomography Registry sites in Addendum XII may be addressed to Stuart Caplan, RN, MAS, Office of Clinical Standards and Quality, Centers for Medicare & Medicaid Services, C1-09-06, 7500 Security Boulevard, Baltimore, MD 21244-1850, or you can call (410) 786-8564.

Questions concerning Medicare-approved ventricular assist device (destination therapy) facilities in Addendum XIII may be addressed to JoAnna Baldwin, MS, Office of Clinical Standards and Quality, Centers for Medicare & Medicaid Services, C1-09-06, 7500 Security Boulevard, Baltimore, MD 21244-1850, or you can call (410) 786-7205.

Questions concerning Medicare-approved lung volume reduction surgery facilities listed in Addendum XIV may be addressed to JoAnna Baldwin, MS, Office of Clinical Standards and Quality, Centers for Medicare & Medicaid Services, C1-09-06, 7500 Security Boulevard, Baltimore, MD 21244-1850, or you can call (410) 786-7205.

Questions concerning Medicare-approved bariatric surgery facilities listed in Addendum XV may be addressed to Kate Tillman, RN, MA, Office of Clinical Standards and Quality, Centers for Medicare & Medicaid Services, C1-09-06, 7500 Security Boulevard, Baltimore, MD 21244-1850, or you can call (410) 786-9252.

Questions concerning fluorodeoxyglucose positron emission tomography for dementia trials listed in Addendum XVI may be addressed to Stuart Caplan, RN, MAS, Office of Clinical Standards and Quality, Centers for Medicare & Medicaid Services, C1-09-06, 7500 Security Boulevard, Baltimore, MD 21244-1850, or you can call (410) 786-8564.

Questions concerning all other information may be addressed to Gwendolyn Johnson, Office of Strategic Operations and Regulatory Affairs, Regulations Development Group, Centers for Medicare & Medicaid Services, C5-14-03, 7500 Security Boulevard, Baltimore, MD 21244-1850, or you can call (410) 786-6954.

SUPPLEMENTARY INFORMATION:

I. Program Issuances

The Centers for Medicare & Medicaid Services (CMS) is responsible for administering the Medicare and Medicaid programs. These programs pay for health care and related services for 39 million Medicare beneficiaries and 35 million Medicaid recipients. Administration of the two programs involves (1) furnishing information to Medicare beneficiaries and Medicaid recipients, health care providers, and the public and (2) maintaining effective communications with regional offices, State governments, State Medicaid agencies, State survey agencies, various providers of health care, all Medicare contractors that process claims and pay bills, and others. To implement the various statutes on which the programs are based, we issue regulations under the authority granted to the Secretary of the Department of Health and Human Services under sections 1102, 1871, 1902, and related provisions of the Social Security Act (the Act). We also issue various manuals, memoranda, and statements necessary to administer the programs efficiently.

Section 1871(c)(1) of the Act requires that we publish a list of all Medicare manual instructions, interpretive rules, statements of policy, and guidelines of general applicability not issued as regulations at least every 3 months in the Federal Register. We published our first notice June 9, 1988 (53 FR 21730). Although we are not mandated to do so by statute, for the sake of completeness of the listing of operational and policy statements, and to foster more open and transparent collaboration, we are continuing our practice of including Medicare substantive and interpretive regulations (proposed and final) published during the respective 3-month timeframe.

II. How To Use the Addenda

This notice is organized so that a reader may review the subjects of manual issuances, memoranda, substantive and interpretive regulations, NCDs, and FDA-approved IDEs published during the subject quarter to determine whether any are of particular interest. We expect this notice to be used in concert with previously published notices. Those unfamiliar with a description of our Medicare manuals may wish to review Table I of our first three notices (53 FR 21730, 53 FR 36891, and 53 FR 50577) published in 1988, and the notice published March 31, 1993 (58 FR 16837). Those desiring information on the Medicare NCD Manual (NCDM, formerly the Medicare Coverage Issues Manual (CIM)) may wish to review the August 21, 1989, publication (54 FR 34555). Those interested in the revised process used in making NCDs under the Medicare program may review the September 26, 2003, publication (68 FR 55634).

To aid the reader, we have organized and divided this current listing into 11 addenda:

• Addendum I lists the publication dates of the most recent quarterly listings of program issuances.

• Addendum II identifies previous Federal Register documents that contain a description of all previously published CMS Medicare and Medicaid manuals and memoranda.

• Addendum III lists a unique CMS transmittal number for each instruction in our manuals or Program Memoranda and its subject matter. A transmittal may consist of a single or multiple instruction(s). Often, it is necessary to use information in a transmittal in conjunction with information currently in the manuals.

• Addendum IV lists all substantive and interpretive Medicare and Medicaid regulations and general notices published in the Federal Register during the quarter covered by this notice. For each item, we list the—

○ Date published;

○ Federal Register citation;

○ Parts of the Code of Federal Regulations (CFR) that have changed (if applicable);

○ Agency file code number; and

○ Title of the regulation.

• Addendum V includes completed NCDs, or reconsiderations of completed NCDs, from the quarter covered by this notice. Completed decisions are identified by the section of the NCDM in which the decision appears, the title, the date the publication was issued, and the effective date of the decision.

• Addendum VI includes listings of the FDA-approved IDE categorizations, using the IDE numbers the FDA assigns. The listings are organized according to the categories to which the device numbers are assigned (that is, Category A or Category B), and identified by the IDE number.

• Addendum VII includes listings of all approval numbers from the Office of Management and Budget (OMB) for collections of information in CMS regulations in title 42; title 45, subchapter C; and title 20 of the CFR.

• Addendum VIII includes listings of Medicare-approved carotid stent facilities. All facilities listed meet CMS standards for performing carotid artery stenting for high risk patients.

• Addendum IX includes a list of the American College of Cardiology's National Cardiovascular Data Registry sites. We cover implantable cardioverter defibrillators (ICDs) for certain indications, as long as information about the procedures is reported to a central registry.

• Addendum X includes a list of active CMS guidance documents. As required by section 731 of the Medicare Prescription Drug, Improvement, and Modernization Act of 2003 (MMA) (Pub. L. 108-173, enacted on December 8, 2003), we will begin listing the current versions of our guidance documents in each quarterly listings notice.

• Addendum XI includes a list of special one-time notices regarding national coverage provisions. We are publishing a list of issues that require public notification, such as a particular clinical trial or research study that qualifies for Medicare coverage.

• Addendum XII includes a listing of National Oncologic Positron Emission Tomography Registry (NOPR) sites. We cover positron emission tomography (PET) scans for particular oncologic indications when they are performed in a facility that participates in the NOPR.

• Addendum XIII includes a listing of Medicare-approved facitilites that receive coverage for ventricular assist devices used as destination therapy. All facilities were required to meet our standards in order to receive coverage for ventricular assist devices implanted as destination therapy.

• Addendum XIV includes a listing of Medicare-approved facilities that are eligible to receive coverage for lung volume reduction surgery. Until May 17, 2007, facilities that participated in the National Emphysema Treatment Trial are also eligible to receive coverage.

• Addendum XV includes a listing of Medicare-approved facilities that meet minimum standards for facilities modeled in part on professional society statements on competency. All facilities must meet our standards in order to receive coverage for bariatric surgery procedures.

• Addendum XVI includes a listing of Medicare-approved clinical trials for fluorodeoxyglucose positron emission tomography (FDG-PET) for dementia and neurodegenerative diseases.

III. How To Obtain Listed Material

A. Manuals

Those wishing to subscribe to program manuals should contact either the Government Printing Office (GPO) or the National Technical Information Service (NTIS) at the following addresses: Superintendent of Documents, Government Printing Office, Attn: New Orders, P.O. Box 371954, Pittsburgh, PA 15250-7954, Telephone (202) 512-1800, Fax number (202) 512-2250 (for credit card orders); or National Technical Information Service, Department of Commerce, 5825 Port Royal Road, Springfield, VA 22161, Telephone (703) 487-4630.

In addition, individual manual transmittals and Program Memoranda listed in this notice can be purchased from NTIS. Interested parties should identify the transmittal(s) they want. GPO or NTIS can give complete details on how to obtain the publications they sell. Additionally, most manuals are available at the following Internet address: http://cms.hhs.gov/manuals/default.asp.

B. Regulations and Notices

Regulations and notices are published in the daily Federal Register. Interested individuals may purchase individual copies or subscribe to the Federal Register by contacting the GPO at the address given above. When ordering individual copies, it is necessary to cite either the date of publication or the volume number and page number.

The Federal Register is also available on 24x microfiche and as an online database through GPO Access. The online database is updated by 6 a.m. each day the Federal Register is published. The database includes both text and graphics from Volume 59, Number 1 (January 2, 1994) forward. Free public access is available on a Wide Area Information Server (WAIS) through the Internet and via asynchronous dial-in. Internet users can access the database by using the World Wide Web; the Superintendent of Documents home page address is http://www.gpoaccess.gov/fr/index.html, by using local WAIS client software, or by telnet to swais.gpoaccess.gov, then log in as guest (no password required). Dial-in users should use communications software and modem to call (202) 512-1661; type swais, then log in as guest (no password required).

C. Rulings

We publish rulings on an infrequent basis. CMS Rulings are decisions of the Administrator that serve as precedent final opinions and orders and statements of policy and interpretation. They provide clarification and interpretation of complex or ambiguous provisions of the law or regulations relating to Medicare, Medicaid, Utilization and Quality Control Peer Review, private health insurance, and related matters. Interested individuals can obtain copies from the nearest CMS Regional Office or review them at the nearest regional depository library. We have, on occasion, published rulings in the Federal Register. Rulings, beginning with those released in 1995, are available online, through the CMS Home Page. The Internet address is http://cms.hhs.gov/rulings.

D. CMS' Compact Disk-Read Only Memory (CD-ROM)

Our laws, regulations, and manuals are also available on CD-ROM and may be purchased from GPO or NTIS on a subscription or single copy basis. The Superintendent of Documents list ID is HCLRM, and the stock number is 717-139-00000-3. The following material is on the CD-ROM disk:

• Titles XI, XVIII, and XIX of the Act.

• CMS-related regulations.

• CMS manuals and monthly revisions.

• CMS program memoranda.

The titles of the Compilation of the Social Security Laws are current as of January 1, 2005. (Updated titles of the Social Security Laws are available on the Internet at http://www.ssa.gov/OP-Home/ssact/comp-toc.htm.) The remaining portions of CD-ROM are updated on a monthly basis.

Because of complaints about the unreadability of the Appendices (Interpretive Guidelines) in the State Operations Manual (SOM), as of March 1995, we deleted these appendices from CD-ROM. We intend to re-visit this issue in the near future and, with the aid of newer technology, we may again be able to include the appendices on CD-ROM.

Any cost report forms incorporated in the manuals are included on the CD-ROM disk as LOTUS files. LOTUS software is needed to view the reports once the files have been copied to a personal computer disk.

IV. How To Review Listed Material

Transmittals or Program Memoranda can be reviewed at a local Federal Depository Library (FDL). Under the FDL program, government publications are sent to approximately 1,400 designated libraries throughout the United States. Some FDLs may have arrangements to transfer material to a local library not designated as an FDL. Contact any library to locate the nearest FDL.

In addition, individuals may contact regional depository libraries that receive and retain at least one copy of most Federal Government publications, either in printed or microfilm form, for use by the general public. These libraries provide reference services and interlibrary loans; however, they are not sales outlets. Individuals may obtain information about the location of the nearest regional depository library from any library.

For each CMS publication listed in Addendum III, CMS publication and transmittal numbers are shown. To help FDLs locate the materials, use the CMS publication and transmittal numbers. For example, to find the Medicare Benefit Policy publication titled “Continuous Positive Airway Pressure Therapy for Obstructive Sleep Apnea,” use CMS-Pub. 100-03, Transmittal No. 86.

(Catalog of Federal Domestic Assistance Program No. 93.773, Medicare—Hospital Insurance, Program No. 93.774, Medicare—Supplementary Medical Insurance Program, and Program No. 93.714, Medical Assistance Program)

Dated: December 8, 2008.
Jacquelyn Y. White,
Director, Office of Strategic Operations and Regulatory Affairs.

BILLING CODE 4120-01-P

BILLING CODE 4120-01-C

Addendum IX

American College of Cardiology's National Cardiovascular Data Registry Sites [July Through September 2008]

In order to obtain reimbursement, Medicare national coverage policy requires that providers implanting ICDs for primary prevention clinical indications (that is, patients without a history of cardiac arrest or spontaneous arrhythmia) report data on each primary prevention ICD procedure. This policy became effective January 27, 2005. Details of the clinical indications that are covered by Medicare and their respective data reporting requirements are available in the Medicare National Coverage Determination (NCD) Manual, which is on the Centers for Medicare & Medicaid Services (CMS) Web site at http://www.cms.hhs.gov/Manuals/IOM/itemdetail.asp?filterType=none&filterByDID=99&sortByDID=1&sortOrder=ascending&itemID=CMS014961.

A provider can use either of two mechanisms to satisfy the data reporting requirement. Patients may be enrolled either in an Investigational Device Exemption trial studying ICDs as identified by the FDA or in the American College of Cardiology's National Cardiovascular Data Registry (ACC-NCDR) ICD registry. Therefore, in order for a beneficiary to receive a Medicare-covered ICD implantation for primary prevention, the beneficiary must receive the scan in a facility that participates in the ACC-NCDR ICD registry.

We maintain a list of facilities that have been enrolled in this registry. Addendum IX includes the facilities that have been designated in the quarter covered by this notice.

Facility name | Address 1 | Address 2 | City | State | Zip
Abbott Northwestern Hospital | 800 East 28th Street (Internal Zip 33210) |  | Minneapolis | MN | 55407
Abilene Regional Medical Center | 6250 Highway 83-84 Antilley Road |  | Abilene | TX | 97606
Abington Memorial Hospital | 1200 York Road |  | Abington | PA | 19446
Adena Regional Medical Center | 272 Hospital Road |  | Chillicothe | OH | 45601
Adventist Bolingbrook Hospital | 120 North Oak Street |  | Bolingbrook | IL | 60440
Adventist Medical Center | 10123 SE Market Street |  | Portland | OR | 97216
Advocate Christ Medical Center | 4440 West 95th Street | #127NOB | Oak Lawn | IL | 60453
Advocate Good Shepherd Hospital | 450 W. Highway 22 |  | Barrington | IL | 60010
Advocate Illinos Masonic Medical Center | 836 W. Wellington |  | Chicago | IL | 60657
Advocate Lutheran General Hospital | 1775 Dempster Street |  | Park Ridge | IL | 60068
Advocate South Suburban Hospital | 17800 S. Kedzie Avenue |  | Hazel Crest | IL | 60429
Affinity Medical Center | 400 Austin Avenue |  | Massillon | OH | 44646
Aiken Regional Medical Center | 302 University Parkway |  | Aiken | SC | 29802
Akron City Hospital | 525 East Market Street |  | Akron | OH | 44309-2090
Akron General Medical Center | 400 Wabash Avenue | Heart & Vascular Center | Akron | OH | 44307
Alamance Regional Medical Center | PO Box 202 |  | Burlington | NC | 27216
Alaska Regional Hospital | 2801 Debarr Road |  | Anchorage | AK | 99508
Albany Medical Center Hospital | 43 New Scotland Avenue |  | Albany | NY | 12208
Albert Einstein Medical Center | 5501 Old York Road |  | Philadelphia | PA | 19141
Alegent Health Bergan Mercy Medical Center | 7500 Mercy Road |  | Omaha | NE | 68124
Alegent Health Immanuel Medical Center | 6828 North 72nd Street | Suite 3000N | Omaha | NE | 68122-1709
Alegent Health Mercy Hospital | 6901 North 72nd Street |  | Omaha | NE | 68122
Alexian Brothers Medical Center | 800 Biesterfield Road |  | Elk Grove Village | IL | 60007-3311
Allegheny General Hospital | 320 East North Avenue |  | Pittsburg | PA | 15212
Allegiance Health (W.A. Foote Memorial Hospital | 205 N. East Avenue | Heart Center 1st Floor | Jackson | MI | 49201
Allen Memorial Hospital | 1825 Logan Avenue |  | Waterloo | IA | 50703
Alpena Regional Medical Center | 1501 W. Chisholm Street |  | Alpena | MI | 49707
Alta Bates Medical Center | 2450 Ashby Avenue |  | Berkeley | CA | 94705
Alta Bates Summit Medical Center | 350 Hawthorne Avenue |  | Oakland | CA | 94609
Alton Memorial Hospital | 1 Memorial Drive |  | Alton | IL | 62067
Altoona Hospital | 620 Howard Avenue |  | Altoona | PA | 16601
Altru Health System | 1200 South Columbai Road |  | Grand Forks | ND | 58201
Alvarado Hospital | 6645 Alvarado Road |  | San Diego | CA | 92120
Anaheim Memorial Medical Ctr. | 1111 W. La Palma Avenue |  | Anaheim | CA | 92801
AnMed Health | 800 Fant Street |  | Anderson | SC | 29621
Anna Jaques Hospital | 25 Highland Avenue |  | Newburyport | MA | 01950
Anne Arundel Medical Center | 2001 Medical Parkway |  | Annapolis | MD | 21404
Appleton Medical Center/ThedaClark Medical Center | 1818 N. Meade Street | Rm 165-B | Appleton | WI | 54911
Arizona Heart Hospital | 1930 East Thomas Road |  | Phoenix | AZ | 85016
Arizona Regional Medical Center | 4838 East Baseline Road | Suite 109-110 | Mesa | AZ | 85206
Arkansas Heart Hospital | 1701 S. Shackelford Road |  | Little Rock | AR | 72202
Arlington Memorial Hospital | 800 W. Randol Mill Road |  | Arlington | TX | 76012
Arnot-Ogden Medical Center | 600 Roe Avenue |  | Elmira | NY | 14905
Arrowhead Hospital | 18701 N. 67th Avenue |  | Glendale | AZ | 85308
Aspirus Wausau Hospital | 333 Pine Ridge Boulevard |  | Wausau | WI | 54401
Athens Regional Medical Center | 1199 Prince Avenue |  | Athens | GA | 30606
Atlanta Medical Center | 303 Parkway Drive NE |  | Atlanta | GA | 30312
Atlanticare Regional Medical Center | 2500 English Creek Avenue |  | Egg Habour Township | NJ | 08234
Atrium Medical Center | One Medical Center |  | Franklin | OH | 45005
Audrain Medical Center | 620 E. Monroe Street |  | Mexico | MO | 65265
Aultman Hospital | 2600 Sixth Street SW |  | Canton | OH | 44710
Aurora BayCare Medical Center | 2845 Greenbrier Road |  | Green Bay | WI | 54308
Aurora Medical Center— Kenosha | 2900 W. Oklahoma Avenue |  | Milwaukee | WI | 53132
Aurora Medical Center of Washington County | 1032 E. Sumner Street |  | Hartford | WI | 53027
Aurora Memorial Hospital of Burlington | 252 Mc Henry Street |  | Burlington | WI | 53105
Aurora Sheboygan Memorial Medical Center | 2629 N. 7th Street |  | Sheboygan | WI | 53083
Aurora Sinai Medical Center | 945 N. 12th Street |  | Milwaukee | WI | 53233
Aurora West Allis Memorial Hospital | 2900 E. Oklahoma Avenue |  | Milwaulee | WI | 53215
Aventura Hospital and Medical Center | 20900 Biscayne Boulevard |  | Aventura | FL | 33180
Avera Heart Hospital of South Dakota | 4500 West 69th Street |  | Sioux Falls | SD | 57108
Avera Sacred Heart Hospital | 501 Summit |  | Yankton | SD | 57078
Avera St. Luke's | 305 S. State Street |  | Aberdeen | SD | 57401
Bakersfield Heart Hospital | 3001 Sillect Avenue |  | Bakersfield | CA | 93308
Bakersfield Memorial Hospital | 420 34th Street | PO Box 1888 | Bakersfield | CA | 93303-1888
Ball Memorial Hospital | 2401 University Avenue |  | Muncie | IN | 47303
Baltimore Washington Medical Center | 301 Hosptial Drive | 2nd Floor Cardiac Cath Lab | Glen Burnie | MD | 21061
Banner Boswell Medical Center | 10401 W. Thunderbird Boulevard |  | Sun City | AZ | 85351
Banner Desert Medical Center | Banner Desert Medical Center, Quality Management | 1400 S. Dobson Road | Mesa | AZ | 85202
Banner Estrella Medical Center | 9201 W. Thomas Road |  | Phoenix | AZ | 85037
Banner Good Samaritan Med Center | 1111 East McDowell Road |  | Phoenix | AZ | 85006-2612
Banner Heart Hospital | 6750 E. Baywood Avenue |  | Mesa | AZ | 85206
Banner Thunderbird Med Center | 5555 W. Thunderbird Road |  | Glendale | AZ | 85306
Baptist Health Medical Center | 9601 Interstate 630 Exit 7 |  | Little Rock | AR | 72205-7299
Baptist Health Medical Center | 3333 Springhill Drive |  | North Little Rock | AR | 72117
Baptist Hospital | 1000 W. Moreno Street |  | Pensacola | FL | 32501
Baptist Hospital | 4220 Harding Road |  | Nashville | TN | 37202
Baptist Hospital East | 4000 Kresge Way |  | Louisville | KY | 40207
Baptist Hospital of East Tennessee | 10820 Parkside Drive |  | Knoxville | TN | 37934
Baptist Hospital of Miami | 8900 SW 88th Street |  | Miami | FL | 33176
Baptist Hospital West | 137 Blount Avenue |  | Knoxville | TN | 37920
Baptist Medical Center | 800 Prudential Drive |  | Jacksonville | FL | 32207
Baptist Medical Center | 730 North Main Avenue | Suite 409 | San Antonio | TX | 78205
Baptist Memorial Hospital North Mississippi | 2301 South Lamar Boulevard |  | Oxford | MS | 38655
Baptist Memorial Hospital | 6019 Walnut Grove Road |  | Memphis | TN | 38120
Baptist Memorial Hospital-Desoto | 7601 Southcrest Parkway |  | Southaven | MS | 38671
Baptist Memorial Hospital-Union City | 1201 Bishop Street |  | Union City | TN | 38261
Baptist St. Anthony's Health Systems | 1600 Wallace Boulevard |  | Amarillo | TX | 79106
Barberton Citizens Hospital | 155 5th Street NE |  | Barberton | OH | 44203
Barnes Jewish Hospital/Washington University | #1 Barnes Jewish Hospital Plaza | SW Tower-Main. Mailstop 90-59-315 | Saint Louis | MO | 63110-9930
Barstow Community Hospital | 555 South Seventh Street |  | Barstow | CA | 92311
Barstow Regional Medical Center | 2200 Osprey Boulevard, PO Box 1050 |  | Barstow | FL | 33831-1050
Bassett Healthcare-(Mary Imogene Bassett Hospital) | One Atwell Road |  | Cooperstown | NY | 13326
Baton Rouge General Medical Center | 3600 Florida Boulevard |  | Baton Rouge | LA | 70806
Battle Creek Health System | 300 North Avenue |  | Battle Creek | MI | 49016
Baxter Regional Medical CenterAttn: A/P | 624 Hospital Drive |  | Mountain Home | AR | 72653
Bay Medical Center | 615 North Bonita Avenue |  | Panama City | FL | 32401
Bay Regional Medical Center | 1900 Columbus Avenue |  | Bay City | MI | 48708
Bayfront Medical Center | 701 Sixth Street South |  | St. Petersburg | FL | 33701
Bayhealth Medical Center (KGH) | 640 S. State Street |  | Dover | DE | 19901
Baylor All Saints Medical Center at Fort Worth | 1400 8th Avenue |  | Fort Worth | TX | 76104
Baylor Jack and Jane Hamilton Heart and Vascular Hospital | 621 North Hall Street |  | Dallas | TX | 75226
Baylor Medical Center at Garland | 2300 Marie Curie Drive |  | Garland | TX | 75042
Baylor Medical Center at Irving | 1901 North MacArthur Boulevard |  | Irving | TX | 75061
Baylor Regional Medical Center at Grapevine | 1650 West College Street |  | Grapevine | TX | 76051
Bayshore Medical Center | 4000 Spencer Highway |  | Pasadena | TX | 77504
Baystate Medical Center | 759 Chestnut Street | Springfield 4 4558 | Springfield | MA | 01199
Beauregard Memorial Hospital | 600 S. Pine Street |  | Deridder | LA | 70634
Bellevue Hospital Center | 462 First Avenue |  | New York | NY | 10016
Bellin Memorial Hospital | 744 S. Webster Avenue | Cardiac Data Center 5th Floor | Green Bay | WI | 54301
Benefis Healthcare | 1101 26th Street South |  | Great Falls | MT | 59405-5161
Berkshire Medical Center, Inc | 725 North Street |  | Pittsfield | MA | 01201-4124
Bert Fish Medical Center | 401 Palmetto Street |  | New Smyrna Beach | FL | 32168
Beth Israel Deaconess Medical Center | 185 Pilgrim Road |  | Boston | MA | 02215
Bethesda Memorial Hospital | 2815 S. Seacrest Blvd |  | Boynton Beach | FL | 33435
Bethesda North Hospitals | 375 Dixmyth Avenue |  | Cincinnati | OH | 45220-2489
Beverly Hospital | 85 Herrick Street |  | Beverly | MA | 01915
Bexar County Hospital District d.b.a. University Health | 4502 Medical Drive | Stop 34-1 | San Antonio | TX | 78229
Biloxi Regional Medical Center | 150 Reynoir Street |  | Biloxi | MS | 39531
Blake Medical Center | 2020 59th Street West |  | Bradenton | FL | 34209
Blanchard Valley Hospital | 1900 South Main Street | HeartCare Center | Findlay | OH | 45840
Blessing Hospital | 1005 Broadway | PO Box 7005 | Quincy | IL | 62305-7005
Bloomington Hospital | 601 W. Second Street |  | Bloomington | IN | 47403
Blue Ridge HealthCare | 2201 South Sterling Street |  | Morganton | NC | 28655
Boca Raton Community Hospital | 12201 NW Second Place |  | Coral Springs | FL | 33071
Bon Secours DePaul Medical Center | 150 Kingsley Lane |  | Norfolk | VA | 23505
Bon Secours—Maryview Medical Center | 3636 High Street |  | Portsmouth | VA | 23707
Bon Secours—Memorial Regional Medical Center | 5801 Bremo Road | Suite 310, North Medical Office Building | Richmond | VA | 23226
Bon Secours St Francis Medical Center | 13701 Centerpointe Parkway |  | Midlothian | VA | 23114
Bon Secours St. Marys Hospital | 5801 Bremo Road | Suite 310, North Medical Office Building | Richmond | VA | 23226
Boone Hospital Center | 1600 E. Broadway |  | Columbia | MO | 65201-5897
Borgess Medical Center | 1521 Gull Road |  | Kalamazoo | MI | 49048
Boston Medical Center | One Boston Medical Place |  | Boston | MA |
Botsford Hospital | 28050 Grand River Avenue |  | Farmington Hills | MI | 48336
Boulder Community Hospital | 1100 Balsam Avenue |  | Boulder | CO | 80304
Braddock Campus | 900 Seton Drive |  | Cumberland | MD | 21502-1850
Brandon Regional Hospital | 119 Oakfield Drive |  | Brandon | FL | 33511
Brandon Regional Hospital | 119 Oakfield Drive | Attn: CCL | Brandon | FL | 33511
Brandywine Hospital | 201 Reeceville Road |  | Coatesville | PA | 19320
Bridgeport Hospital | 267 Grant Street |  | Bridgeport | CT | 06610
Brigham & Womens Hospital | 75 Francis Street | L258A | Boston | MA | 02115
Bromenn Hospital | PO Box 2850 |  | Bloomington | IL | 61702-2850
Bronson Methodist Hospital | 601 John Street |  | Kalamazoo | MI | 49007-5348
Brookdale Hospital & Medical Center | 1 Brookdale Plaza |  | Brooklyn | NY | 11212
Brooklyn Hospital Center | 121 DeKalb Avenue |  | Brooklyn | NY | 11201
Brooksville Regional Hospital | 17240 Cortez Boulevard |  | Brooksville | FL | 34601
Brookwood Medical Center | 2010 Brookwood Medical Center |  | Birmingham | AL | 35209
Brotman Medical Center | 3828 Delmas Terrance |  | Culver City | CA | 90232
Broward General Medical Center | 1600 S. Andrews Avenue |  | Ft. Lauderdale | FL | 33316
Brownsville Doctors Hospital | 4750 N. Expressway |  | Brownville | TX | 78526
Bryan LGH Medical Center | 1600 South 48th Street |  | Lincoln | NE | 68526
Bryn Mawr Hospital | Suite 557 Lankenau MOB East | 100 Lancaster Avenue | Wynnewood | PA | 19096
Buffalo General Hospital/Aaron Health Sciences Library 4D | 100 High Street |  | Buffalo | NY | 14203
Cabell Huntington Hospital | 1340 Hal Greer Boulevard |  | Huntington | WV | 25701
California Pacific Medical Center | 2330 Clay Street, Stern Building, Room #103 | Stern Building, Room #103 | San Francisco | CA | 94115
CAMC Teays Valley Hospital | 1400 Hospital Drive |  | Hurricane | WI | 25526
Camden-Clark Memorial Hospital | 800 Garfield Avenue |  | Parkersburg | WV | 26101
Candler Hospital, Inc. | 5353 Reynolds Street |  | Savannah | GA | 31405
Cape Canaveral Hospital | 701 West Cocoa Beach Causeway |  | Cocoa Beach | FL | 32931
Cape Cod Hospital | 40 Quinlan Way |  | Hyannis | MA | 02601
Cape Fear Valley Health System | 303 Wagoner Drive |  | Fayetteville | NC | 28303-4646
Capital Regional Medical Center | barbara.scott3@hcahealthcare.com |  | Tallahassee | FL | 32308
Capital Regional Medical Center | 1125 Madison Street, (PO Box 1128) |  | Jefferson City | MO | 65102-1128
Cardiovascular Center of Puerto Rico | PO Box 366528 |  | San Juan | PR | 00936-6528
Carilion Roanoke Memorial Hosp | Att: Cardiac Cath Lab | PO Box 13367 | Roanoke | VA | 24033-3367
Caritas Norwood Hospital | 800 Washington Street |  | Norwood | MA | 02062
Caritas St. Elizabeths Med Center | 736 Cambridge Street |  | Boston | MA | 02135
Carle Foundation Hospital | 611 W. Park Street |  | Urbana | IL | 61801
Carolina Pines Regional Medical Center | 1304 W BoBo Newsom Highway |  | Hartsville | SC | 29550
Carolinas Hospital System | 805 Pamplico Highway |  | Florence | SC | 29505
Carolinas Medical Center | 1001 Blythe Boulevard |  | Charlotte | NC | 28227
Carolinas Medical Center—Mercy | 2001 Vail Avenue | Cath Lab | Charlotte | NC | 28207
Carondelet Heart Institute at St. Joseph Medical Center | 1000 Carondelet Drive |  | Kansas City | MO | 64114
Carroll Hospital Center | 200 Memorial Avenue |  | Westminster | MD | 21157
Carson Tahoe Regional Medical Center | 1600 Medical Parkway |  | Carson City | NV | 89706
Cartersville Medical Center | PO Box 20008 |  | Cartersville | GA | 30120
Casa Grande Regional Medical Center | 1800 E. Florence Boulevard |  | Casa Grande | AZ | 85222
Castleview Hospital | 300 North Hospital Drive |  | Price | UT | 84501
Catawba Valley Medical Center | 810 Fairgrove Church Road |  | Hickory | NC | 28602
Catholic Medical Center | 100 McGregor Street | Level C Room 248 | Manchester | NH | 03102-3770
Cayuga Medical Center at Ithaca | 101 Dates Drive |  | Ithaca | NY | 14850
Cedars-Sinai Health Systems | 8700 Beverly Boulevard | MGB 901 | Los Angeles | CA | 90048
Centennial Hills Hospital Medical Center | 6900 N. Durango Drive |  | Las Vegas | NV | 89149-4409
Centennial Medical Center | 12505 Lebanon Boulevard |  | Frisco | TX | 75035
Centennial Medical Center | 2300 Patterson Street |  | Nashville | TN | 37203
Centerpoint Medical Center | 19600 E. 39th Street |  | Independence | MO | 64057
Centinela Hospital Medical Center | 555 E. Hardy Street |  | Inglewood | CA | 90301
Central Baptist Hospital | 1800 Nicholasville Road, Suite 401 |  | Lexington | KY | 40503
Central DuPage Hospital | 25 N. Winfield Road |  | Winfield | IL | 60190
Central Florida Regional Hospital | 1401 W. Seminole Boulevard |  | Sanford | FL | 32771
Central Maine Medical Center | 300 Main Street |  | Lewiston | ME | 04240
Central Minnesota Heart Center at St. Cloud Hospital | 1406 Sixth Ave. North |  | St. Cloud | MN | 56303
Central Mississippi Medical Center | 1850 Chadwick Drive |  | Jackson | MS | 39204
Chandler Regional Medical Center | 475 S. Dobson Road | Quality Management Department | Chandler | AZ | 85224
Charleston Area Medical Center | 501 Morris Street |  | Charleston | WV | 25301
Charlotte Regional Medical Center | 809 East Marion Avenue |  | Punta Gorda | FL | 33950
Charlton Memorial Hospital | 363 Highland Avenue |  | Fall River | MA | 02720-3700
Chattanooga-Hamilton County Hospital Authority/ER | 975 E. Third Street |  | Chattanooga | TN | 37403
Chesapeake General Hospital | 736 Battlefield Boulevard North |  | Chesapeake | VA | 23320
Cheshire Medical Center | 580 Court Street |  | Keene | NH | 03431
Chester County Hospital | 701 East Marshall Street |  | West Chester | PA | 19380
Chester River Hospital Center | 100 Brown Street |  | Chestertown | MD | 21620
Cheyenne Regional Medical Center | Cheyenne Regional Medical Center | 214 E. 23rd Street | Cheyenne | WY | 82001
Christian Hospital | 11133 Dunn Road |  | St Louis | MO | 63136
Christiana Care Health System | 4755 Ogletown-Stanton Road |  | Newark | DE | 19718
Christus Hospital—St. Mary | 3600 Gates Boulevard |  | Port Arthur | TX | 77642
Christus Saint Elizabeth Hospital | 2830 Calder Street |  | Beaumont | TX | 77702
Christus Santa Rosa Hospital | 2827 Babcock Road |  | San Antonio | TX | 78229
Christus Spohn Hospital Corpus Christi—Shoreline | 600 Elizabeth Street |  | Corpus Christi | TX | 78404
Christus St. Michael Health System | 2600 St. Michael Drive |  | Texarkana | TX | 75503
Christus St. Patrick Hospital | 524 South Ryan Street |  | Lake Charles | LA | 70602-3401
Christus—Schumpert Highland Hospital | One St. Mary Place |  | Shreveport | LA | 71101
Christus—St. Frances Cabrini Hospital | 3330 Masonic Drive | Cath Lab | Alexandria | LA | 71301
Citrus Memorial Health System | 502 W. Highland Boulevard |  | Inverness | FL | 34452
CJW Medical Center | 7101 Jahnke Road |  | Richmond | VA | 23225-4044
Clarian Health Partners-Methodist Hospital Campus | 1701 N. Senate Boulevard | Room A1082 | Indianapolis | IN | 46202
Clarian North Medical Center | 11725 Illinois Street B-178 |  | Carmel | IN | 46032
Clark Memorial Hospital | 1220 Missouri Avenue |  | Jeffersonville | IN | 47130
Clear Lake Regional Medical Center | 500 Medical Center Boulevard |  | Webster | TX | 77598
Cleveland Clinic Florida | 3100 Weston Road |  | Weston | FL | 33331
Cleveland Clinic Foundation | 9500 Euclid Avenue |  | Cleveland | OH | 44195
Coliseum Medical Centers | 350 Hospital Drive |  | Macon | GA | 31217
College Station Medical Center | 1604 Rock Prairie Road |  | College Station | TX | 77845
Columbia Hospital | 2025 E. Newport Avenue |  | Milwaukee | WI | 53211
Columbia Regional Hospital | 404 Keene Street |  | Columbia | MO | 65201
Columbia St. Mary's Hospital Milwaukee | 4425 N. Port Washington Road |  | Milwaukee | WI | 53212
Columbia St. Mary's Hospital Ozaukee | 13111 N. Port Washington Road |  | Mequon | WI | 53097
Columbus Cardiovascular Care, PLLC | 2520 5th Street North, PO Box 1307 |  | Columbus | MS | 39703
Columbus Regional Hospital | 2400 17th Street |  | Columbus | IN | 47201
Comanche County Memorial Hospital | 3401 W. Gore Boulevard | PO Box 129 | Lawton | OK | 73505
Community Health Partners | 3700 Kolbe Road |  | Lorain | OH | 44053
Community Hospital | The Community Hospital | 901 MacArthur Boulevard | Munster | IN | 46321
Community Hospital and Wellness Center | 433 West High Street |  | Bryan | OH | 43506
Community Hospital East | Cardiovascular Services | 1500 North Ritter Avenue | Indianapolis | IN | 46219
Community Hospital of the Monterey Peninsula | PO Box HH |  | Monterey | CA | 93942-1085
Community Hospital South | 1500 N. Ritter Avenue |  | Indianapolis | IN | 46219-3027
Community Medical Center | 2827 Fort Missoula Road |  | Missoula | MT | 59804
Community Medical Center | 99 Highway 37 West |  | Toms River | NJ | 08775
Community Medical Center | 1800 Mulberry Street |  | Scranton | PA | 18510
Community Medical Center-Clovis | 2755 Herndon Avenue |  | Clovis | CA | 93611
Community Memorial Hospital | 147 N. Brent Street |  | Ventura | CA | 93003
Community Memorial Hospital | W180 N8085 Town Hall Road |  | Menomonee Falls | WI | 53052
Concord Hospital | 250 Pleasant Street |  | Concord | NH | 03301
Condell Medical Center | 801 S. Milwaukee Avenue |  | Libertyville | IL | 60048
Conroe Regional Medical Center | 504 Medical Center Boulevard |  | Conroe | TX | 77304
Covenant Heart Institute | 3615 19th Street |  | Lubbock | TX | 79410
Conway Regional Medical Center | 2302 College Avenue |  | Conway | AR | 72034-6226
Cookeville Regional Medical Center | 142 W. 5th Street |  | Cookeville | TN | 38501-1760
Cooley Dickinson Hospital | 30 Locust Street |  | Northampton | MA | 01060
Cooper University Hospital | One Cooper Plaza | D386B | Camden | NJ | 08103
Coral Gables Hospital | 3100 Douglas Road |  | Coral Gables | FL | 33134
Corpus Christi Medical Center | 7101 SPID |  | Corpus Christi | TX | 78412
County of Santa Clara | 751 S. Bascom Avenue |  | San Jose | CA | 95128
Covenant Healthcare | 1447 N. Harrison Street |  | Saginaw | MI | 48602
Covenant Medical Center | 3421 West Ninth Street. |  | Waterloo | IA | 50702
Cox Medical Center South | 3801 S. National Avenue |  | Springfield | MO | 65807
Craven Regional Medical Center | 2000 Neuse Boulevard | PO Box 12157 | New Bern | NC | 28560
Creighton University Medical Center | 601 N. 30th Street |  | Omaha | NE | 68131
Crestwood Medical CenterTriad Hospitals, Inc | One Hospital Drive |  | Huntsville | AL | 35801-3495
Crittenton Hospital Medical Center | 1101 W. University Drive |  | Rochester | MI | 48307-1831
Crouse Hospital | 736 Irving Avenue |  | Syracuse | NY | 13210
Crozer Chester Medical Center | 1 Medical Center Boulevard |  | Chester | PA | 19013-3995
Cumberland Cardiology | 5000 US Route 321 |  | Prestonsburg | KY | 41653
CVPH Medical Center | 75 Beekman Street |  | Plattsburgh | NY | 12901
Cypress Fairbanks Medical Center | 10655 Steepletop Drive |  | Houston | TX | 77065
Dallas Regional Medical Center | 1011 N. Galloway Avenue |  | Mesquite | TX | 75149
Dameron Hospital | 525 W. Acacia Street |  | Stockton | CA | 95203
Danbury Hospital | 24 Hospital Avenue | Cardiology 2 South | Danbury | CT | 06810
Davis Hospital | 1600 West Antelope Drive |  | Layton | UT | 84041
Davis Regional Medical Center | 218 Old Mocksville Road |  | Stateville | NC | 28625
Dayton Heart Hospital | 707 S. Edwin C. Moses Boulevard |  | Dayton | OH | 45408
DCH Regional Medical Center | 809 University Boulevard E |  | Tuscaloosa | AL | 35401-2029
Deaconess Billings Clinic | 2800 9th Avenue, North |  | Billings | MT | 59101
Deaconess Hospital | 311 Straight Street |  | Cincinnati | OH | 45219
Deaconess Hospital | 5501 N. Portland Avenue |  | Oklahoma City | OK | 73112
Deaconess Hospital | 600 Mary Street |  | Evansville | IN | 47747
Deaconess Medical Center | W. 800 Fifth Avenue |  | Spokane | WA | 99204
Deborah Heart & Lung Center | 200 Trenton Road |  | Browns Mills | NJ | 08015
Decatur General Hospital | 1201 7th Street |  | Decatur | AL | 35601
Degraff Memorial Hospital | 100 High Street |  | Buffalo | NY | 14203
Dekalb Medical Center | 2701 N. Decatur Road |  | Decatur | GA | 30033
Dekalb Regional Medical Center | 200 Medical Center Drive |  | Fort Payne | AL | 35968
Del Sol Medical Center | 10301 Gateway West |  | El Pasoq | TX | 79925
Delray Medical Center | 5352 Linton Boulevard |  | Delray Beach | FL | 33484
Delta Regional Medical Center | 1400 E. Union Street |  | Greenville | MS | 38702
Denton Regional Medical Center | 3535 South I-35E |  | Denton | TX | 76205
Denver Health Medical Center | 777 Bannock Street |  | Denver | CO | 80204
DePaul Health Center | 12303 DePaul Drive |  | Bridgeton | MO | 63044
Des Peres Hospital | 2345 Dougherty Ferry Road |  | St. Louis | MO | 63122
Desert Regional Medical Center | 1150 N. Indian Canyon |  | Palm Springs | CA | 92262
Desert Springs Hospital | 620 Shadow Lane |  | Las Vegas | NV | 89106
Desert Valley Hospital | 16850 Bear Valley Road |  | Victorville | CA | 92392
DeTar Hospital | 506 E. San Antonio Street |  | Victoria | TX | 77902
Dixie Regional Medical Center | 1380 E. Medical Drive |  | St. George | UT | 84790
Doctors Hospital | 5000 University Drive |  | Miami | FL | 33146
Doctors Hospital | 5100 West Broad Street |  | Columbus | OH | 43228
Doctors Hospital | 9440 Poppy Drive |  | Dallas | TX | 75218
Doctor's Hospital | 3983 I-49 S. Service Road |  | Opelousas | LA | 70570
Doctors Hospital at Renaissance | 5501 S. McColl Road |  | Edinburg | TX | 78539
Doctors Hospital—Augusta | 3651 Wheeler Drive |  | Augusta | GA | 30909
Doctors Hospital of Laredo | 10700 McPherson Road |  | Laredo | TX | 78045
Doctors Hospital of Sarasota | 5731 Bee Ridge Road |  | Sarasota | FL | 34233
Doctors Hospital—Tidwell | 510 West Tidwell Road |  | Houston | TX | 77091
Doctors Medical Center | 2000 Vale Road |  | San Pablo | CA | 94806
Doctors Medical Center | 1441 Florida Avenue |  | Modesto | CA | 95350
Dominican Santa Cruz Hospital | 1555 Soquel Drive |  | Santa Cruz | CA | 95065
Downey Regional Medical Center | 11500 Brookshire Avenue |  | Downey | CA | 90241
Doylestown Hospital | 595 West State Street |  | Doylestown | PA | 18901
DuBois Regional Medical Center | 100 Hospital Avenue |  | DuBois | PA | 15801
Duke Health Raleigh Hospital | DUMC Box 3973 (3400 Wake Forest Road) |  | Raleigh | NC | 27609
Duke University Hospital | Erwin Road DUMC 3943 |  | Durham | NC | 27710
Dunn Memorial Hospital | 1600 23rd Street |  | Bedford | ID | 47421
Durham Regional Hospital | 3634 Roxboro Road |  | Durham | NC | 27704
East Alabama Medical Center | 2000 Pepperall Parkway |  | Opelika | AL | 36830
East Georgia Regional Medical Center | 1499 Fair Road, (PO Box 1048) |  | Statesboro | GA | 30459
East Jefferson General Hospital | 4200 Houma Boulevard | Quality Management Department | Metairie | LA | 70006
East Ohio Regional Hospital | 90 N. 4th Street |  | Martins Ferry | OH | 43935
East Texas Medical Center | 1000 S. Beckham Avenue |  | Tyler | TX | 75711
Eastern Idaho RMC | 3100 Channing Way |  | Idaho Falls | ID | 83404
Eastern Maine Medical Center | 489 State Street | PO Box 404 | Bangor | ME | 04402-0404
Easton Hospital (Northampton Hospital Corp.) | 250 South 21st Street |  | Easton | PA | 18042
Edward Hospital | 120 Spalding Drive #205 |  | Naperville | IL | 60540
Eisenhower Medical Center | 39000 Bob Hope Drive |  | Rancho Mirage | CA | 92270
El Camino Hospital | 2500 Grant Road |  | Mountain View | CA | 94040
Eliza Coffee Memorial Hospital | 603 West College Street |  | Florence | AL | 35630
Elkhart General Hospital | 600 East Boulevard | 3 South Suites | Elkhart | IN | 46514-2499
Elliot Hospital | 1 Elliot Way |  | Manchester | NH | 03103
Ellis Hospital | 1101 Nott Street |  | Schenectady | NY | 12308
Elmhurst Hospital Center | 79-01 Broadway | Dept of Cardiology, Suite D-54 | Elmhurst | NY | 11373
Elmhurst Memorial Hospital Marquardt Memorial Lib | 200 Berteau Avenue |  | Elmhurst | IL | 60126
EMH Regional Medical Center | 630 East River Street |  | Elyria | OH | 44035
Emory Crawford Long Hospital | 550 Peachtree Street |  | Atlanta | GA | 30308
Emory Dunwoody Medical Center | 4575 North Shallowford Road |  | Atlanta | GA | 30338
Emory University Hospital | 1364 Clifton Road, NE C408 |  | Atlanta | GA | 30322
Encino-Tarzana Regional Medical Center | 18321 Clark Street |  | Tarzana | CA | 91356-3501
Englewood Hospital & Medical Center | 350 Engle Street |  | Englewood | NJ | 07631
Enloe Medical Center | 1600 Esplanade |  | Chico | CA | 95926
Erie County Medical Center | 462 Grider Street |  | Buffalo | NY | 14215
Evanston Hospital | 2650 Ridge Ave |  | Evanston | IL | 60201
Evergreen Healthcare | 12040 NE 128th Street MS21 |  | Kirkland | WA | 98034
Excela Health Westmoreland Hospital | 532 West Pittsburgh Street |  | Greensburg | PA | 15601
Exempla Good Samaritan Medical Center | 2420 W. 26th Avenue Building D, Suite 100 |  | Denver | CO | 80211
Exempla Lutheran Medical Center | 2420 W. 26th Avenue Building D, Suite 140 |  | Denver | CO | 80211
Exempla Saint Joseph Hospital | 2420 W. 26th Avenue Building D, Suite 140 |  | Denver | CO | 80211
Exeter Hospital | 5 Alumni Drive |  | Exeter | NH | 03833
F.E. Lajam, MD PC | 140-04 58th Road |  | Flushing | NY | 11355
Fairfield Cardiac Cath Labs | 3000 Mack Road | Suite 200 | Fairfield | OH | 45014
Fairfield Medical Center | 401 N. Ewing Street |  | Lancaster | OH | 43130
Fairview Hospital | 18101 Lorain Road, #329 |  | Cleveland | OH | 44111
Fairview Park Hospital | 200 Industrial Boulevard |  | Dublin | GA | 31021
Fairview Southdale Hospital | 6401 France Avenue South |  | Edina | MN | 55435
Faith Regional Health Services | 2700 W. Norfolk Avenue |  | Norfolk | NE | 68701
Fawcett Memorial Hospital | 21298 Olean Boulevard |  | Port Charlotte | FL | 33949-4960
Faxton—St. Luke's Campus | 1656 Champlin Avenue |  | New Hartford | NY | 13413
FirstHealth Moore Regional Hospital | 155 Memorial Drive |  | Pinehurst | NC | 28374
Fisher-Titus Medical Center | 272 Benedict Avenue |  | Norwalk | OH | 44857
Flagler Hospital | 400 Health Park Boulevard |  | St. Augustine | FL | 32086
Fletcher Allen Health Care | 111 Colchester Avenue |  | Burlington | VT | 05401
Florida Hospital Zephyrhills | 7050 Gall Boulevard |  | Zephyrhills | FL | 33541
Florida Hospital | 601 East Rollins Street | Box 99 | Orlando | FL | 32803
Florida Hospital Fish Memorial | 1055 Saxon Boulevard |  | Orange City | FL | 32763
Florida Hospital Ormond Memorial | 875 Sterthaus Avenue |  | Ormond Beach | FL | 32174
Florida Hospital Waterman, Inc. | 1000 Waterman Way |  | Tavares | FL | 32778
Florida Medical Center | 5000 W. Oakland Park Boulevard |  | Lauderdale Lakes | FL | 33313
Flowers Hospital | 4370 West Main Street |  | Dothan | AL | 36305
Floyd Medical Center | 304 Turner McCall Boulevard |  | Rome | GA | 30165
Forest Hills Hospital | 102-01 66th Road |  | Forest Hills | NY | 11375
Forrest General Hospital | 6051 Highway 49 South |  | Hattiesburg | MS | 39404-6389
Forsyth Medical Center | 3333 Silas Creek Parkway | Clinical Improvement, Box 102 | Winston-Salem | NC | 27103
Fort Sanders Regional Medical Center | 1901 Clinch Avenue |  | Knoxville | TN | 37916-2307
Fort Walton Beach Medical Center | 1000 Mar Walt Drive |  | Fort Walton Beach | FL | 32547
Forum Health—Northside Medical Center | 500 Gypsy Lane |  | Youngstown | OH | 44501-0240
Fountain Valley Regional Hosp | 17100 Euclid Street |  | Fountain Valley | CA | 92708-4004
Frankford Hospital | Knights & Red Lion Roads |  | Philadelphia | PA | 19114
Frankfort Regional Medical Center | 299 Kings Daughter Drive |  | Frankfort | KY | 40601
Franklin Square Hospital | 9000 Franklin Square Drive |  | Baltimore | MD | 21237
Frederick Memorial Hospital | 400 W. Seventh Street |  | Frederick | MD | 21710
Freeman Hospital | 1102 W. 32nd Street | 1102 W. 32nd Street | Joplin | MO | 64804
Freeport Health Network | 1045 W. Stephenson Street |  | Freeport | IL | 61032
Fremont Area Medical Center | 450 East 23rd Street |  | Fremont | NE | 68025
French Hospital Medical Center | 1911 Johnson Avenue |  | St Luis Obispo | CA | 93401
Fresno Community Hospital and Medical Center | 110 N. Valeria Street #103 |  | Fresno | CA | 93710
Fresno Heart Hospital | 15 East Audubon Drive |  | Fresno | CA | 93720
Froedtert Hospital | 9200 W. Wisconsin Avenue |  | Milwaukee | WI | 53226
Frye Regional Medical Center | 420 N. Center Street |  | Hickory | NC | 28601
Gadsden Regional Medical Center | 1007 Goodyear Avenue |  | Gadsden | AL | 35903
Galichia Heart Hospital | 2610 N. Woodlawn Boulevard |  | Wichita | KS | 67220
Garden City Hospital | 6245 Inkster Road |  | Garden City | MI | 48135
Garden Grove Hospital | 12601 Garden Grove Boulevard |  | Garden Grove | CA | 92843
Gaston Memorial Hospital | 2525 Court Drive |  | Gastonia | NC | 28054
Gateway Medical Center Gateway Health System | 651 Dunlap Lane |  | Clarksville | TN | 37043
Gateway Regional Medical Center | 2100 Madison Avenue |  | Granite City | IL | 62040
Geisinger Medical Center | 100 North Academy Avenue |  | Danville | PA | 17822-2160
Geisinger Wyoming Valley Medical Center | 100 North Academy Avenue |  | Danville | PA | 17822-2160
Genesis Medical Center | 1236 East Rusholme Street | Suite 190 | Davenport | IA | 52803-2459
Genesis Medical Center, Illini Campus | 801 Illini Drive |  | Silvis | IL | 61282
Genesys Regional Medical Center | One Genesys Parkway |  | Grand Blanc | MI | 48439
Georgetown University Hospital | 3800 Reservoir Road NW |  | Washington | DC | 20007
Gerald Champion Reginal Medical | 2669 North Scenic Drive |  | Alamogordo | NM | 88310
Glenbrook Hospital | 2100 Pfingsten Road |  | Evanston | IL | 60026
Glendale Adventist Medical Center | 1509 Wilson Terrace |  | Glendale | CA | 91206
Glendale Memorial Hospital and Health Center | 1420 S. Central Avenue |  | Glendale | CA | 91204
Glens Falls Hospital | 100 Park Street |  | Glens Falls | NY | 12801
Glenwood Regional Medical Center | 503 McMillan Road |  | West Monroe | LA | 71291
Good Samaritan Heart Center | 520 South 7th Street |  | Vincennes | IN | 47591
Good Samaritan Hospital and Health Center | 2222 Philadelphia Drive |  | Dayton | OH | 45406
Good Samaritan Hospital | 2425 Samaritan Drive | 2425 Samaritan Drive | San Jose | CA | 95124
Good Samaritan Hospital | 605 N. 12th Street |  | Mount Vernon | IL | 62864
Good Samaritan Hospital | 3815 Highland Avenue |  | Downers Grove | IL | 60515
Good Samaritan Hospital | 375 Dixmyth Avenue |  | Cincinnati | OH | 45220-2489
Good Samaritan Hospital | 1225 Wilshire Boulevard |  | Los Angelos | CA | 90017
Good Samaritan Hospital | 10 East 31 Street |  | Kearney | NE | 68848
Good Samaritan Hospital | 255 Lafayette Avenue |  | Suffern | NY | 10901
Good Samaritan Hospital Cardiology | 1000 Montauk Highway |  | West Islip | NY | 11795
Good Samaritan Hospital of Maryland | 5601 Loch Raven Boulevard |  | Baltimore | MD | 21239
Good Samaritan Medical Center | 1309 North Flagler Drive |  | West Palm Beach | FL | 33401
Good Samaritan Regional Medical Center | 3600 NW Samaritan Drive |  | Corvallis | OR | 97330
Good Shepherd Medical Center | 700 East Marshall Avenue |  | Longview | TX | 75601
Governor Juan F. Luis Hospital & Medical Center | 4007 Estate Diamond Ruby |  | Christiansted | VI | 00820
Graduate Hospital | 1800 Lombard Street |  | Philadelphia | PA | 19146
Grady Memorial Hospital | 561 West Central Avenue |  | Delaware | OH | 43015-1489
Grand Strand Regional Medical Center | 809 82nd Parkway |  | Myrtle Beach | SC | 29572
Grandview Medical Center | 405 Grand Avenue |  | Dayton | OH | 45405
Grant Medical Center | 111 S. Grant Avenue |  | Columbus | OH | 43215
Great Plains Regional Medical Center | Box 2339 |  | Elk City | OK | 73648
Greater Baltimore Medical Center | GBMC—Cardiac Cath Lab | 6701 N. Charles Street | Towson | MD | 21204
Greene Memorial Hospital | 1141 N. Monroe Drive |  | Xenia | OH | 45385
Greenview Regional Hospital | 1801 Ashley Circle |  | Bowling Green | KY | 42104
Greenville Memorial Hospital | 701 Grove Road |  | Greenville | SC | 29605
Greenwich Hospital | 5 Perryridge Road |  | Greenwich | CT | 06830
Gulf Coast Medical Center | 449 W. 23rd Street |  | Panama City | FL | 32406-5309
Gulf Coast Medical Center | 1400 Highway 59 |  | Wharton | TX | 77488
Gundersen Lutheran Medical Center, Inc | 1900 South Avenue | H06-004 | LaCrosse | WI | 54601
Gwinnett Hospital System | 1000 Medical Center Boulevard |  | Lawrenceville | GA | 30045
Hackensack University Medical Center | 30 Prospect Avenue |  | Hackensack | NJ | 07601
Hackley Hospital General Fund | 1700 Clinton Street |  | Muskegon | MI | 49443
Hahnemann University Hospital | 230 N. Broad Street |  | Philadelphia | PA | 19102
Halifax Medical Center | 303 N. Clyde Morris Boulevard |  | Daytona Beach | FL | 32114-2732
Halifax Regional Hospital | 2204 Wilborn Avenue |  | South Boston | VA | 24592
Hamilton Medical Center | 1200 Memorial Drive |  | Dalton | GA | 30720
Hamot Medical Center | 201 State Street |  | Erie | PA | 16550
Hannibal Regional Hospital | 6000 Hospital Drive |  | Hannibal | MO | 63401
Harbor Hospital Center | 3001 S. Hanover Street |  | Baltimore | MD | 21225
Hardin Memorial Hospital | 913 N Dixie Avenue |  | Elizabethtown | KY | 42701
Harlingen Medical Center | 5501 South Expressway 77 |  | Harlingen | TX | 78550
Harper University Hospital | 3990 John R. Street |  | Detroit | MI | 48201
Harris Methodist Fort Worth | 1301 Pennsylvania Avenue |  | Fort Worth | TX | 76104
Harris Methodist HEB | 1600 Hospital Parkway |  | Bedford | TX | 76022
Harrison Medical Center | 2520 Cherry Avenue |  | Bremerton | WA | 98310
Hartford Hospital | 80 Seymour Street |  | Hartford | CT | 06102-8000
Harton Regional Medical Center | 1801 N. Jackson Street |  | Tullahoma | TN | 37388
Havasu Regional Medical Center | 101 Civic Center Lane |  | Lake Havasu City | AZ | 86403
Hawaii Medical Center East, LLC | 2230 Liliha Street |  | Honolulu | HI | 96817
Hawaii Medical Center West | 91-2141 Fort Weaver Road |  | Ewa Beach | HI | 96706
Hays Medical Center | 2220 Canterbury Road |  | Hays | KS | 67601
Hazard ARH Regional Medical Center | 100 Medical Center Drive |  | Hazard | KY | 41701
Health Care Authority for Baptist Health | 2105 East South Boulevard |  | Montgomery | AL | 36116
Heart and Lung Clinic | 900 East Broadway, Box 5510 |  | Bismarck | ND | 58502
Heart Center of Indiana | 8333 Nabb Road, Suite 330 | Suite 330 | Indianapolis | IN | 46290
Heart Hospital of Austin | 3801 N. Lamar Boulevard |  | Austin | TX | 78756
Heart Hospital of Lafayette | 1105 Kaliste Saloom Road |  | Lafayette | LA | 70508
Heart Hospital of New Mexico | 504 Elm Street NE |  | Albuqerque | NM | 87102
Heart of Florida Regional Medical Center | 40100 Highway 27 |  | Davenport | FL | 33837
Heart of Lancaster Regional Medical Center | 250 College Avenue |  | Lancaster | PA | 17604
Heartland Regional Medical Center | 3333 W. Deyoung Street |  | Marion | IL | 62959
Heartland Regional Medical Center | The Heart Center—Cardiac Cath Lab | 5325 Faraon Street | Saint Joseph | MO | 64506-3373
Helen Ellis Memorial | 1395 South Pinella Avenue |  | Tarpon Springs | FL | 34689
Hellen Keller Hospital | 1300 South Montgomery Avenue |  | Sheffield | AL | 35660
Hemet Valley Medical Center | 1117 E. Devonshire Avenue |  | Hemet | CA | 92543
Hendersonville Medical Center | 355 New Shackle Island Road |  | Hendersonville | TN | 37075
Hendrick Medical Center | 1900 Pine Street |  | Abilene | TX | 79601
Hennepin County Medical Center | 701 Park Avenue |  | Minneapolis | MN | 55415-1829
Henrico Doctors Hospital | 1602 Skipwith Road | Cardiac Cath Lab | Richmond | VA | 23229
Henry Ford Hospital | 2799 W. Grand Boulevard | K-14 | Detroit | MI | 48202
Henry Ford Macomb | 15855 Nineteen Mile Road |  | Clinton Township | MI | 48038
Henry Ford Macomb-Warren | 13355 East Ten Mile Road |  | Warren | MI | 48089
Henry Mayo Newhall Memorial Hospital | 23845 McBean Parkway |  | Valencia | CA | 91350
Henry Medical Center, Inc | 1133 Eagles Landing Parkway |  | Stockbridge | GA | 30281
Hialeah Hospital | 651 East 25th Street |  | Hialeah | FL | 33013
High Point Regional Hospital | 601 N. Elm Street |  | High Point | NC | 27261
Highland Park Hospital | 718 Glenview Avenue |  | Highland Park | IL | 60035
Highlands Regional Medical Center | 3600 S. Highlands Avenue |  | Sebring | FL | 33870
Hillcrest Baptist Medical Center | 3000 Herring Avenue |  | Waco | TX | 76708
Hillcrest Hospital | 6780 Mayfield Road |  | Mayfield Heights | OH | 44124
Hillcrest Medical Center | 1120 S. Utica Avenue | 3 West | Tulsa | OK | 74104
Hilton Head Regional Medical Center | 25 Hospital Center Boulevard |  | Hilton Head | SC | 29925
Hinsdale Hospital | 120 N. Oak Street |  | Hinsdale | IL | 60521
HMA-Physician Management Region 25 Disb. Acct. (Physician's Regional) | 6101 Pine Ridge Road |  | Naples | FL | 34119
Hoag Memorial Hospital Presbyterian | One Hoag Drive |  | Newport Beach | CA | 92658
Holland Community Hospital | 602 Michigan Avenue |  | Holland | MI | 49423
Hollywood Medical Center | 3600 Washington Street |  | Hollywood | FL | 33021
Holmes Regional Medical Center | 1355 South Hickory Street, Suite 203 |  | Melbourne | FL | 32901
Holy Cross Hospital | 4725 N. Federal Highway |  | FT. Lauderdale | FL | 33308
Holy Cross Hospital | 2701 W. 68th Street |  | Chicago | IL | 60629
Holy Cross Hospital Medical Library | 1500 Forest Glen Road |  | Silver Spring | MD | 20910
Holy Spirit Health System | 503 N 21st Street | Heart Center Admin. | Camp Hill | PA | 17011-2204
Hospital Auxilio Mutuo de Puerto Rico | PO Box 191277 |  | San Juan | PR | 00919-1227
Hospital of St. Raphael | Cardiac Cath Lab, 1450 Chapel Street |  | New Haven | CT | 06511
Hospital of the University of Pennsylvania | 9011 E. Gates 3400 Spruce Street |  | Philadelphia | PA | 19104
Houston Northwest Medical Center Accounts Payable | 710 FM 1960 Road West |  | Houston | TX | 77090
Howard County General Hospital | 5755 Cedar Lane |  | Columbia | MD | 21044
Howard Regional Health System | 3500 South LaFountain Street |  | Kokomo | IN | 46904-9011
Howard University Hospital | 2041 Georgia Avenue NW |  | Washington | DC | 20060
Huguley Memorial Medical Center | 11801 S. Freeway |  | Ft. Worth | TX | 76115
Huntington Hospital | 100 W. California Boulevard |  | Pasadena | CA | 91109
Huntington Hospital | 270 Park Avenue |  | Huntington | NY | 11743
Huntsville Hospital | 101 Sivley Road |  | Huntsville | AL | 35801
Hutchinson Hospital | 1701 E. 23rd Avenue |  | Hutchinson | KS | 67502
Iberia Medical Center | 2315 East Main Street |  | New Iberia | LA | 70560
Immanuel-St. Joseph's Hospital | 1025 Marsh Street |  | Mankato | MN | 56001
Indian River Medical Center | 1000 36th Street |  | Vero Beach | FL | 32960
Indiana Heart Institute | 8333 Naab Rd | Suite 330 | Indianapolis | IN | 46260
Indiana Regional Medical Center Cardiology Department | 835 Hospital Road |  | Indiana | PA | 15701
Ingalls Hospital | One Ingalls Drive |  | Harvey | IL | 60426
Ingham Regional Medical Center | 401 W. Greenlawn Avenue |  | Lansing | MI | 48910
Innovis Health | 3000 32nd Avenue SW |  | Fargo | ND | 58104
Inova Alexandria Hospital | 4320 Seminary Road |  | Alexandria | VA | 22304
Inova Fairfax Hospital/Inova Heart & Vascular Institute | 3300 Gallows Road |  | Falls Church | VA | 22042
Inova Loudoun Hospital | 3289 Woodburn Road | Suite 235 | Falls Church | VA | 22042
Integris Baptist Medical Center | 3433 NW 56th Street, Suite 805 |  | Oklahoma City | OK | 73112
Integris Health | 600 S. Monroe Street |  | Enid | OK | 73701
Integris Southwest Medical Center | 4401 South Western Avenue |  | Oklahoma City | OK | 73109
Intermountain Medical Center | PO Box 577000 |  | Murray | UT | 84157-7000
Iowa Lutheran Hospital | 700 E. University Avenue |  | Des Moines | IA | 50316
Iowa Methodist Medical Center | 700 E. University Avenue |  | Des Moines | IA | 50316
Iredell Memorial Hospital | 557 Brookdale Drive |  | Statesville | NC | 28687
Iroquois Memorial Hospital | 200 Fairman Avenue |  | Watseka | IL | 60970
Irvine Regional Hospital and Medical Center | 16200 Sand Canyon Avenue |  | Irvine | CA | 92618-3701
Jackson Hospital and Clinic | 1725 Pine Street |  | Montgomery | AL | 36106
Jackson Madison General Hospital | 708 West Forrest Avenue |  | Jackson | TN | 38301
Jackson Memorial Hospital | 1611 N.W. 12th Avenue |  | Miami | FL | 33136
Jacobi Medical Center | 1400 Pelham Parkway |  | Bronx | NY | 10461-1101
Jamaica Hospital Medical Center | 8900 VanWyck Expressway |  | Jamaica | NY | 11418
Jane Phillips Memorial Medical Center | 3500 Frank Phillips Boulevard |  | Bartlesville | OK | 74006
Jeanes Hospital | 7600 Central Avenue |  | Philadelphia | PA | 19111
Jeff Anderson Regional Medical Center | 2124 14th Street |  | Meridian | MS | 39301
Jefferson Memorial Hospital | PO BOX 350 |  | Crystal City | MO | 63019
Jefferson Regional Medical Center | 1600 West 40th Avenue |  | Pine Bluff | AR | 71603
Jefferson Regional Medical Center | PO Box 18119, 565 Coal Valley Road |  | Pittsburgh | PA | 15236-0119
Jennie Edmundson Memorial Hospital | 933 E. Pierce Street |  | Council Bluffs | IA | 51503
Jersey City Medical Center | 355 Grand Street |  | Neptune | NJ | 07307
Jersey Shore University Medical Center | 1945 State Route 33 |  | Neptune | NJ | 07753
Jewish Hospital | 4777 East Galbraith Road |  | Cincinnati | OH | 45236
Jewish Hospital | 200 Abraham Flexner Way |  | Louisville | KY | 40202
JFK Medical Center | 5631 Glencrest Boulevard |  | Tampa | FL | 33625-1008
John C. Lincoln Hospital—Deer Valley | 19829 N. 27th Ave. |  | Phoenix | AZ | 85027-4002
John C. Lincoln Hospital—North Mountain | 250 E. Dunlap Avenue |  | Phoenix | AZ | 85020-2871
John F. Kennedy Memorial Hospital | 47-111 Monroe Street |  | Indio | CA | 92201
John Muir Medical Center—Concord Campus | 2540 East Street |  | Concord | CA | 94520
John Muir—Walnut Creek | 1601 Ygnacio Valley Road |  | Walnut Creek | CA | 94550
Johns Hopkins Bayview Medical Center | 4940 Eastern Avenue |  | Baltimore | MD | 21224
Johns Hopkins Hospital | 600 N. Wolfe Street |  | Baltimore | MD | 21287
Johnson City Medical Center Hosp | 400 N State of Franklin |  | Johnson City | TN | 37604
Jordan Valley Hospital | 3580 W. 9000 S |  | West Jordan | UT | 84088
Kadlec Medical Center | 888 Swift Boulevard |  | Richland | WA | 99352
Kaiser Foundation Hospital | 1526 Edgemont Street |  | Los Angeles | CA | 90027
Kaiser Foundation Hospital | 6600 Bruceville Road |  | Sacramento | CA | 95823
Kaiser Permanente—Moanalua Medical Center | 3288 Moanalua Road |  | Honolulu | HI | 96819
Kaiser Permanente—Panorama City | 13652 Cantara Street |  | Panoram City | CA | 91402
Kaiser Permanente Medical Center | 2350 Geary Boulevard | 1st Floor—CV Surgery | San Francisco | CA | 94115
Kaiser Permanente Medical Center—Santa Clara | 710 Lawrence Expressway |  | Santa Clara | CA | 95051
Kaiser Permanente Medical Center Health Sciences Library | 9400 E. Rosecrans Avenue |  | Bellflower | CA | 90706
Kaiser Permanente Walnut Creek | 4647 Zion Avenue |  | Bellflower | CA | 92120
Kaiser Sunnyside Medical Center | 10180 SE Sunnyside Road |  | Clackamas | OR | 97015
Kansas Heart Hospital | 3601 N Webb Road |  | Wichita | KS | 67226
Kansas Heart Hospital | 3601 N Webb Road |  | Wichita | KS | 67226
Kansas Medical Center | 1124 West 21st Street |  | Andover | KS | 67002
Kansas University Hospital Authority | 3901 Rainbow Boulevard |  | Kansas City | KS | 66160
Kapi'olani Medical Center Pali Momi | 98-1079 Moanalua Road |  | Aiea | HI | 96701
Katherine Shaw Bethea Hospital | 403 E. First Street |  | Dixon | IL | 61021
Kaweah Delta Hospital District | Kaweah Delta Hospital District | 400 W. Mineral King Avenue | Visalia | CA | 93291
Kendall Regional Medical Center | 5631 Glencrest Boulevard |  | Tampa | FL | 33625-1008
Kershaw County Medical Center | 1315 Roberts Street |  | Camden | SC | 29020
Kettering Medical Center | 3535 Southern Boulevard |  | Kettering | OH | 45429
Kingman Regional Medical Center | 3269 Stockton Hill Road |  | Kingman | AZ | 86401
Kings Daughters Hospital | 1901 Southwest H.K. Dodgen Loop |  | Temple | TX | 76502
Kings Daughters Medical Center | 2201 Lexington Avenue |  | Ashland | KY | 41101
Kingwood Medical Center | 22999 Highway 59 N |  | Kingwood | TX | 77339
Knox Community Hospital | 1330 Coshocton Road |  | Mount Vernon | OH | 43050
Kootenai Medical Center | 2003 Lincoln Way |  | Coeur d' Alene | ID | 83814
Kuakini Medical Center | 347 North Kuakini Street | Cardiac Cath Lab | Honolulu | HI | 96817
Labette Health | 1920 S. US Highway 59, PO BOX 956 |  | Parson | KS | 67357
Lafayette General Medical Center | 1214 Coolidge Avenue |  | Lafayette | LA | 70505
LaGrange Memorial Hospital | 120 North Oak Street |  | Hinsdale | IL | 60521
Lahey Clinic | 41 Mall Road |  | Burlington | MA | 01805
Lake Charles Memorial Hospital | 1701 Oak Park Boulevard |  | Lake Charles | LA | 70601
Lake Hospital System | 36000 Euclid Avenue |  | Willoughby | OH | 44094
Lake Regional Health System | 54 Hospital Drive |  | Osage Beach | MO | 65065
Lakeland Hospital | 1234 Napier Avenue |  | Saint Joseph | MI | 49085-2112
Lakeland Regional Medical Center | 1324 Lakeland Hills Boulevard |  | Lakeland | FL | 33804
Lakeside Hospital | 6901 N. 72nd Street, Suite 3300 |  | Omaha | NE | 68122
Lakeview Regional Medical Center | 95 East Fairway Drive |  | Covington | LA | 70433-7500
Lakeway Regional Hospital | 726 McFarland Street |  | Morristown | TN | 37814
Lakewood Hospital | 14519 Detroit Avenue |  | Lakewood | OH | 44107
Lakewood Ranch Medical Center | 8330 Lakewood Ranch Boulevard |  | Bradenton | FL | 34202
Lakewood Regional Medical Center | 3700 East South Street |  | Lakewood | CA | 90712
Lancaster Community Hosp | 43830 North 10th Sreet West |  | Lancaster | CA | 93534
Lancaster General Hospital | 555 N. Duke Street, PO Box 3555 |  | Lancaster | PA | 17604-3555
Lancaster Regional Medical Center | 250 College Avenue |  | Lancaster | PA | 17604
Landmark Medical Center | 115 Cass Avenue |  | Woonsocket | RI | 02895
Lane Regional Medical Center | 6300 Main Street |  | Zachary | LA | 70791
Lankenau Hospital | Suite 557, Lankenau MOB East | 100 Lancaster Avenue | Wynnewood | PA | 19096
La Porte Hospital | 1007 Lincolnway |  | La Porte | IN | 46352
Laredo Medical Center | 1720 Bustamante Street |  | Laredo | TX | 78044
Largo Medical Center | 201 14th Street SW |  | Largo | FL | 33770
Las Colinas Medical Center | 6800 North MacArthur Boulevard |  | Irving | TX | 75039
Las Palmas Medical Center | 1801 N. Oregon Street |  | El Paso | TX | 79902
Lawnwood Medical Center | 1700 S. 23rd Street |  | Fort Pierce | FL | 34950
Lawrence & Memorial Hospital | 365 Montauk Avenue |  | New London | CT | 06375
Lawrence Hospital | 55 Palmer Avenue |  | Broxville | NY | 10708-3491
Lee Memorial Health System-Cape Coral Hospital | 276 Cleveland Avenue |  | Fort Myers | FL | 33901
Lee Memorial Health System-Health Park Med Center | 276 Cleveland Avenue |  | Fort Myers | FL | 33901
Lee's Summit Medical Center | 2100 SE Blue Parkway |  | Lee's Summit | MO | 64063
Leesburg Regional Medical Center | 600 East Dixie Avenue |  | Leesburg | FL | 34748
Legacy Emanuel Hospital | 1919 NW Lovejoy Street |  | Portland | OR | 97209
Legacy Good Samaritan Hospital | 1919 NW Lovejoy Street |  | Portland | OR | 97209
Legacy Meridian Park Hospital | 19300 SW 65th Avenue |  | Tualatin | OR | 97062
Legacy Salmon Creek Hospital | 1919 NW Lovejoy Street |  | Portland | OR | 97209
Lehigh Regional Medical Center | 1500 Lee Boulevard |  | Lehigh Acres | FL | 33963
Lehigh Valley Hospital | 1200 S. Cedar Crest Boulevard | Jaindl Pavilion, 1st Floor | Allentown | PA | 18103
Lehigh Valley Hospital—Muhlenberg | 2545 Schoenersville Road | Invasive Cardiology, 3rd Floor | Bethlehem | PA | 18017-7330
Lenox Hill Heart and Vascular Institute of New York | 100 East 77th Street |  | New York | NY | 10021
Lewis Gale Medical Center | 1900 Electric Road |  | Salem | VA | 24153
Lexington Medical Center | 2720 Sunset Boulevard |  | West Columbia | SC | 29169
Licking Memorial Hospital | 1320 W. Main Street |  | Newark | OH | 43055
Lima Memorial Hospital | 1001 Bellefontaine Avenue |  | Lima | OH | 45804
Lincoln Park Hospital | 550 W. Webster Avenue |  | Chicago | IL | 60614
Little Company of Mary Hospital | 4101 Torrance Boulevard |  | Torrance | CA | 90503
Little Company of Mary Hospital | 2800 W. 95th Street |  | Evergreen Park | IL | 60805
Logan General Hospital, LLC | 20 Hospital Drive |  | Logan | WV | 25601
Loma Linda University Medical Center | 11234 Anderson Street, Room 2431 |  | Loma Linda | CA | 92354
Long Beach Memorial Medical Center | 2801 Atlantic Avenue |  | Long Beach | CA | 90806
Long Island College Hospital | 339 Hicks Street |  | Brooklyn | NY | 11201
Long Island Jewish Medical Center | 270-05 76th Avenue |  | New Hyde Park | NY | 11040
Longmont United Hospital | 1950 Moutain View Avenue |  | Longmont | CO | 80501
Longview Regional Medical Center | PO Box 14000 |  | Longview | TX | 75607
Los Alamitos Medical Center | 3751 Katella Avenue |  | Los Alamitos | CA | 90720
Los Robles Hospital & Medical Center | 215 W. Janss Road |  | Thousand Oaks | CA | 91360-1899
Louisiana Medical Center and Heart Hospital | 64030 Louisiana Highway 434 |  | Lacombe | LA | 70445
Lourdes Hospital | 1530 Lone Oak Road |  | Paducah | KY | 42003
Lovelace Medical Center | 601 Dr. Martin Luther King, Jr. Ave NE |  | Albuquerque | NM | 87106
Lowell General Hospital | 295 Varnum Avenue |  | Lowell | MA | 01854
Lower Bucks Hospital | 501 Bath Road |  | Bristol | PA | 19007
Lower Keys Medical Center | 5900 College Road |  | Key West | FL | 33040
Loyola University Medical Center | 2160 S. First Avenue | Rm. 1318 Bldg. 104, Att: Mike | Maywood | IL | 60153
LSUHSC-Cath Lab | 1501 Kings Highway |  | Shreveport | LA | 71130
Lubbock Heart Hospital | 4810 N. Loop 289 |  | Lubbock | LA | 79416
Luther Hospital | 1221 Whipple Street |  | Eau Claire | WI | 54703
Lutheran Hospital of Indiana | 7950 W. Jefferson Boulevard |  | Fort Wayne | IN | 46804
Lutheran Medical Center | 150 55th Street |  | Brooklyn | NY | 11220
Lynchburg General Hospital | 1901 Tate Springs Road |  | Lynchburg | VA | 24501-1167
MacNeal Hospital | 3249 S. Oak Park Avenue |  | Berwyn | IL | 60402
Magnolia Regional Health Center | 611 Alcorn Drive |  | Corinth | MS | 38834
Maimonides Medical Center, Division of Cardiology | Division of Cardiology | 4802 10th Avenue | Brooklyn | NY | 11219
Maine Medical Center | 22 Bramhall Street |  | Portland | ME | 04102
Manatee Memorial Hospital | 206 Second Street East |  | Bradenton | FL | 34208
Marian Medical Center | 1400 East Church Street |  | Santa Maria | CA | 93454
Maricopa Integrated Health System | 2601 E. Roosevelt Street |  | Phoenix | AZ | 85008
Marin General Hospital | 250 Bon Air Road |  | Greenbrae | CA | 94904
Marion General Hospital | 441 N. Wabash Avenue |  | Marion | IN | 46952
Marion General Hospital | 1000 McKinley Park Drive |  | Marion | OH | 43302-6397
Marquette General Hospital System | 580 W. College Avenue |  | Marquette | MI | 49855
Marshall University School of Medicine | 420 West Magnetic Street |  | Huntington | WV | 25701
Martha Jefferson Hospital | 459 Locust Avenue |  | Charlottesville | VA | 22902
Martin Memorial Medical Center | PO Box 9010 |  | Stuart | FL | 34995
Mary Black Hospital | 1700 Skylyn Drive |  | Spatanburg | SC | 29307
Mary Greeley Medical Center | 1111 Duff Avenue |  | Ames | IA | 50010
Mary Hitchcock Memorial Hospital | One Medical Center Drive |  | Lebanon | NH | 03756
Mary Rutan Hospital | 205 Palmer Avenue |  | Bellefontaine | OH | 43311
Mary Washington Hospital | 1001 Sam Perry Boulevard |  | Fredericksburg | VA | 22401
Massachusetts General Hospital | 55 Fruit Street |  | Boston | MA | 02114
Mat-Su Regional Medical Center | 2500 S. Woodworth Loop |  | Palmer | AR | 99645
Maui Memorial Medical Center | 221 Mahalani Street |  | Wailuku | HI | 96793
Maury Regional Hospital | 1224 Trotwood Avenue |  | Columbia | TN | 38401
Mayo Clinic | 4201 Belfort Road |  | Jacksonville | FL | 32216
Mayo Clinic Arizona | 5777 E. Mayo Boulevard |  | Phoenix | AZ | 85054
Mayo Clinic—St. Mary's Hospital | 1216 2nd Street SW |  | Rochester | MN | 55902
McAlester Regional Health Center | 1 Clark Bass Boulevard |  | McAlester | OK | 74501
McAllen Medical Center | 301 W. Expressway 83 |  | McAllen | TX | 78503
MCG Health Inc. | 1120 15th Street, BBR-8521 |  | Augusta | GA | 30912
McKay-Dee Hospital Center | 4401 Harrison Boulevard |  | Ogden | UT | 84405
McKee Medical Center | 2000 Boise Avenue |  | Loveland | CO | 80538
McLeod Regional Medical Center | 555 E. Chaves Street |  | Florence | SC | 29501
Mease Countryside Hospital | 3231 Mccullen Booth Road |  | Safety Harbor | FL | 34695
Mease Dunedin Hospital | 207 Jeffords Street, MS 142 |  | Clearwater | FL | 33756
Med Central Mansfield | 335 Glessner Avenue |  | Mansfield | OH | 44903
Medcenter One | 300 N. 7th Street |  | Bismarck | ND | 58501
Medical Center at Bowling Green | 250 Park Street |  | Bowling Green | KY | 42101
Medical Center Hospital | 500 W. 4th Street |  | Odessa | TX | 79760
Medical Center of Arlington | 3301 Matlock Road |  | Arlington | TX | 76015
Medical Center of Aurora | 1501 S. Potomac Street |  | Aurora | CO | 80012
Medical Centerof Central Georgia | 777 Hemlock Street HB 53 |  | Macon | GA | 31208
Medical Center of Louisiana at New Orleans | 1541 Tulane Avenue, Room #203, Butterworth Building |  | New Orleans | LA | 70112
Medical Center of McKinney | 4500 Medical Center Drive |  | McKinney | TX | 75069
Medical Center of Plano | 3901 W. 15th Street |  | Plano | TX | 75075-7738
Medical Center of South Arkansas, LLC | 700 West Grove Street |  | El Dorado | AR | 71730
Medical Center of Southeastern Oklahoma | 1800 University Boulevard |  | Durant | OK | 74701
Medical Center of the Rockies | 2500 Rocky Mountain Avenue |  | Loveland | CO | 80538
Medical City Dallas Hospital | 7777 Forest Lane |  | Dallas | TX | 75230
Medical University of South Carolina | 326 Calhoun Street, Suite 239 |  | Charleston | SC | 29401
Memorial Health System | 1400 E. Boulder Street |  | Colorado Springs | CO | 80909-5599
Memorial Health University Medical Center | Cardiac Cath Lab, Memorial Health University Medical Center | 4700 Waters Avenue | Savannah | GA | 31404
Memorial Hermann Hospital | 6411 Fannin Street |  | Houston | TX | 77030
Memorial Hermann HVI South West | 7787 Southwest Freeway |  | Houston | TX | 77074
Memorial Hermann Memorial City Hospital | 921 Gessner Road |  | Houston | TX | 77024
Memorial Hermann Northeast | 18951 Memorial North |  | Humble | TX | 77338
Memorial Hermann Northwest Hospital | 1635 North Loop West |  | Houston | TX | 77008
Memorial Hermann The Woodlands Hospital | 9250 Pinecroft Drive |  | Spring | TX | 77380
Memorial Hospital | 800 West 9th Street |  | Jasper | IN | 47546
Memorial Hospital | 2525 Desales Avenue |  | Chattanooga | TN | 37404-1102
Memorial Hospital at Gulfport | 4500 13th Street | PO Box 1810 | Gulfport | MS | 39502
Memorial Hospital Carbondale | 405 W. Jackson Street |  | Carbondale | IL | 65902
Memorial Hospital Miramar | 1901 SW 172 Avenue |  | Miramar | FL | 33029
Memorial Hospital of Martinsville | 320 Hospital Drive |  | Martinsville | VA | 24112
Memorial Hospital of Rhode Island Brown University | 111 Brewster Street |  | Pawtucket | RI | 02860
Memorial Hospital of South Bend | 615 N. Michigan Street |  | South Bend | IN | 46601-1033
Memorial Hospital of Tampa | 2901 W. Swann Avenue |  | Tampa | FL | 33609
Memorial Hospital Pembroke/South Broward Hospital | 7800 Sheridan Street |  | Pembroke Pines | FL | 33024
Memorial Hospital West/South Broward Hospital District | 703 North Flamingo Road |  | Pembroke Pines | FL | 33028
Memorial Hospital—Jacksonville | 3625 University Boulevard South |  | Jacksonville | FL | 32215
Memorial Hospitals Association | 1700 Coffee Road |  | Modesto | CA | 95355
Memorial Medical Center | 701 N. First Street |  | Springfield | IL | 62781
Memorial Medical Center | 2450 S. Telshor Boulevard |  | Las Cruces | NM | 88011
Memorial Medical Center | 1086 Franklin Street |  | Johnstown | PA | 15905-4398
Memorial Regional Hospital/South Broward Hospital | 3501 Johnson Street |  | Hollywood | FL | 33021
Memphis Hospital (Germantown Campus) | 1265 Union Avenue |  | Memphis | TN | 38104-3499
Memphis Hospital (North Campus) | 1265 Union Avenue |  | Memphis | TN | 38104-3499
Memphis Hospital (University Campus) | 1265 Union Avenue |  | Memphis | TN | 38104-3499
Menifee Valley Medical Center | 28400 McCell Boulevard |  | Sun City | CA | 92585
Menorah Medical Center | 5721 West 119th Street |  | Overland Park | KS | 66209
Mercy Fitzgerald Hospital | 1500 Lansdowne Avenue |  | Darby | PA | 19023
Mercy General Health Partners | 1500 E. Sherman Boulevard |  | Muskegon | MI | 49444
Mercy General Hospital—Sacramento | 3939 J Street | Suite 215 | Sacramento | CA | 95819
Mercy Gilbert Medical Center | 3555 South Val Vista Drive | Attn.: Cardiac Cath Lab | Gilbert | AZ | 85296
Mercy Health System of Northwestern Arkansas | 2710 Rife Medical Lane |  | Rogers | AR | 72756
Mercy Hospital | 144 State Street |  | Portland | ME | 04101
Mercy Hospital | 2925 Chicago Avenue |  | Minneapolis | MN | 55407
Mercy Hospital—Scranton | 746 Jefferson Avenue |  | Scranton | PA | 18501
Mercy Hospital & Medical Center | 2525 South Michigan Avenue |  | Chicago | IL | 60616
Mercy Hospital, Attn.: Accounts Payable | 3663 South Miami Avenue |  | Miami | FL | 33133
Mercy Hospital of Buffalo | 515 Abbott Road | Marion Building Suite 306 | Buffalo | NY | 14220
Mercy Hospital, Attn: A/P | 271 Carew Street, PO Box 9012 |  | Springfield | MA | 01102
Mercy Iowa City | 500 East Market Street |  | Iowa City | IA | 52245
Mercy Medical Center | 2700 Steward Parkway |  | Roseburg | OR | 97470
Mercy Medical Center | 801 5th Street |  | Sioux City | IA | 51101
Mercy Medical Center | 1111 6th Avenue |  | Des Moines | IA | 51101
Mercy Medical Center | 1320 Mercy Drive | Cardiology Management and Support 3C | Canton | OH | 44708
Mercy Medical Center | 301 St. Paul Place |  | Baltimore | MD | 21202
Mercy Medical Center | 2900 W. 9th Avenue | Suite 107 | Oshkosh | WI | 54904
Mercy Medical Center | 701 10th Street SE |  | Cedar Rapids | IA | 52403
Mercy Medical Center | 1000 North Village Ave |  | Rockville Centre | NY | 11571
Mercy Medical Center Merced | 301 E. 13th Street |  | Merced | CA | 95340
Mercy Medical Center Redding | 2175 Rosaline Avenue; | PO Box 496009 | Redding | CA | 96049-6009
Mercy Medical Center—- North Iowa | 1000 4th Street SW |  | Mason City | IA | 50401
Mercy Regional Health Center | 1823 College Avenue |  | Manhattah | KS | 67218
Mercy Regional Medical Center | 1010 Three Springs Boulevard |  | Durango | CO | 81301
Mercy San Juan Hospital | 3941 J Street | c/o Mercy General Hospital Administration | Sacramento | CA | 95819
MeritCare Hospital | MeritCare Hospital/Heart Services Data/Research |  | Fargo | ND | 58122
Meriter Hospital | 202 South Park Street | 10 Tower—Heart Center | Madison | WI | 53715
Methodist Health System | PO Box 655999 |  | Dallas | TX | 75203
Methodist Hospital | 7700 Floyd Curl Drive |  | San Antonio | TX | 78229
Methodist Hospital | 6500 Excelsior Boulevard 2nd Floor HVC |  | St. Louis Park | MN | 55426
Methodist Hospital of South CA | 300 W Huntington Drive |  | Arcadia | CA | 91007-3402
Methodist Hospital Southlake Campus | 8701 Broadway |  | Merrillville | IN | 46410-7035
Methodist Medical Center | 280 Fort Sanders Boulevard Building 4, Suite 218 |  | Knoxville | TN | 37922
Methodist Medical Center of Illinois | 221 NE Glen Oak Avenue |  | Peoria | IL | 61636
Methodist Speciality and Transplant Hospital | 7700 Floyd Curl Drive |  | San Antonio | TX | 78229
Methodist Sugar Land Hospital | 16655 Southwest Freeway |  | Sugar Land | TX | 77479
Methodist Willowbrook Hospital | 18220 Tomball Parkway |  | Houston | TX | 77070
Metro Health Hospital | 5900 Byron Center Road |  | Wyoming | MI | 49519
MetroHealth Medical Center | 2500 MetroHealth Drive |  | Cleveland | OH | 44109
Metroplex Hospital | 2201 S. Clear Creek Road |  | Killeen | TN | 76549
MetroSouth Medical Center | 12935 Gregory Street |  | Blue Island | IL | 60406-2470
MetroWest Medical Center | 115 Lincoln Street | Cardiac Cath Lab | Framingham | MA | 01702-6327
Miami Valley Hospital | One Wyoming Street |  | Dayton | OH | 45409
Michael Reese Hospital | 2929 S. Ellis Avenue |  | Chicago | IL | 60616
Midland Memorial Hospital | 2200 W. Illinois Avenue c/o Heart Institute |  | Midland | TX | 79701
Midlands Community Hospital | 6901 N. 72nd Street |  | Omaha | NE | 68122
MidMichigan Medical Center-Midland | 4005 Orchard Drive |  | Midland | MI | 48670
Midwest Regional Medical Center | 2825 Parklawn Drive |  | Midwest City | OK | 73110
Milford Regional Medical Center | 14 Prospect Street |  | Milford | MA | 01568
Millard Fillmore Hospital | 100 High Street |  | Buffalo | NY | 14203
Millard Filmore Suburban | 100 High Street |  | Buffalo | Ny | 14203
Mills-Peninsula Hospital | 1783 Elcamino Real |  | Burlingame | CA | 94010
Mission Hospital Regional Medical Center | 27700 Medical Center Road |  | Mission Viejo | CA | 92691-6426
Mission Hospitals, Inc | 509 Biltmore Avenue |  | Asheville | NC | 28801-4690
Mission Regional Medical Center | 900 S. Bryan Road |  | Mission | TX | 78572
Mississippi Baptist Medical Center | 1225 N State Street |  | Jackson | MS | 39202-2097
Missouri Baptist Medical Center | 3015 N. Ballas Road | 3105 North Ballas Road | Saint Louis | MO | 63131-2374
Moberly Regional Medical Center | 1515 Union Avenue |  | Moberly | MO | 65270
Mobile Infirmary Medical Center | 5 Mobile Infirmary Circle |  | Mobile | AL | 36607
Monongalia Genera; Hospital | 1200 JD Anderson Drive |  | Morgantown | WV | 26505
Monroe Hospital | 4011 South Medical Park Boulevard |  | Bloomington | IN | 47403
Montefiore Medical Center | 111 East 210th Street |  | Bronx | NY | 10467-2490
Montgomery General Hospital | 18101 Prince Philip Drive |  | Olney | MD | 20832
Morris Hospital | 150 West High Street |  | Morris | IL | 60450
Morristown Memorial Hospital | 100 Madison Avenue |  | Morristown | NJ | 07962
Morton Plant Hospital | 207 Jeffords Street |  | Clearwater | FL | 33756
Morton Plant North Bay Hospital | 6600 Madison Street |  | New Port Richey | FL | 34652
Moses Cone Health System | 1200 N. Elm Street |  | Greensboro | NC | 27401
Mother Frances Hospital | 800 E.Dawson Street |  | Tyler | TX | 75701
Mount Auburn Hospital | 330 Mount Auburn Street | South 2 - Administration | Cambridge | MA | 02138
Mount Carmel East | 6150 East Broad Street | Office EB 148 | Columbus | OH | 42313
Mount Carmel St. Ann's Hospital | 6150 East Broad Street | Office EB 148 | Columbus | OH | 42313
Mount Carmel West | 6150 East Broad Street | Office EB 148 | Columbus | OH | 42313
Mount Clemens Regional Medical Center | 1000 Harrington Street |  | Mount Clemens | MI | 48043-2992
Mount Sinai Medical Center | 4300 Alton Road |  | Miami Beach | FL | 33140
Mountainview Hospital | 3100 N. Tenaya Way |  | Las Vegas | NV | 89128
Munroe Regional Medical Center | 1500 SW 1st Avenue PO Box 6000 |  | Ocala | FL | 34478
Munson Medical Center | 1105 Sixth Street |  | Traverse City | MI | 49684-2386
Muskogee Regional Medical Center | 300 Rockefeller Drive |  | Muskogee | OK | 74401
Nacogdoches Medical Center | 4920 NE Stallings Drive |  | Nacogdoches | TX | 75965
Naples Community Hospital | 350 7th Street South |  | Naples | FL | 34102
Natchez Regional Medical Center | 54 Sgt. Prentiss Drive |  | Natchez | MS | 39120
NEA Baptist Memorial Hospital | 3024 Stadium Boulevard |  | Jonesboro | AR | 72401
Nebraska Heart Hospital | 7500 South 91st Street |  | Lincoln | NE | 68526
Nebraska Methodist Hospital | 8303 Dodge Street |  | Omaha | NE | 68114
New Hanover Regional Medical Center | 2131 S. 17th Street |  | Wilmington | NC | 28402
New Milford Hospital | 21 Elm Street |  | New Milford | CT | 06776
New York Community Hospital | 2525 Kings Highway |  | Brooklyn | NY | 11229
New York Hospital Medical Center of Queens Health Education Library | 5645 Main Street | Floor 1 | Flushing | NY | 11355
New York Methodist Hospital | 506 6th Street Brooklyn |  | New York City | NY | 11215
New York Presbyterian Hospital | 6220 West 168th Street | PH-2 | New York City | NY | 10032
Newark Beth Israel Medical Center | 201 Lyons Avenue at Osborne Terrace |  | Newark | NJ | 07112
Nicholas H. Noyes Memorial Hospital | 111 Clara Barton Street |  | Dansville | NY | 14437
NIX Healthcare System | 414 Navarro Street |  | San Antonio | TX | 78205
Norman Regional Health System | PO Box 1308 |  | Norman | OK | 73070-1308
North Austin Medical Center | 12221 MoPac Expressway North |  | Austin | TX | 78758
North Bay Medical Center | 1200 B. Gale Wilson Boulevard |  | Fairfield | CA | 94533
North Carolina Baptist Hospital | Medical Center Boulevard |  | Winston-Salem | NC | 27157
North Central Baptist Hospital | 730 Main Avenue | Suite 409 | San Antonio | TX | 78205
North Colorado Medical Center | 1801 16th Street |  | Greeley | CO | 80631
North Cypress Medical Center | 21214 Northwest Freeway |  | Cypress | TX | 77429
North Florida Regional Medical Center | 6500 Newberry Road |  | Gainesville | FL | 32605
North Hills Hospital | 4401 Booth Calloway Road |  | North Richland Hills | TX | 76180
North Kansas City Hospital | 2800 Clay Edward Drive |  | North Kansas City | MO | 64116
North Memorial Medical Center | 3300 Oakdale Avenue, N |  | Robbinsdale | MN | 55422
North Mississippi Medical Center | 830 S. Gloster Street |  | Tupelo | MS | 38801
North Oaks Medical Center | 15790 Paul Vega MD Drive |  | Hammond | LA | 70403
North Ridge Medical Center | 5757 N. Dixie Highway |  | Fort Lauderdale | FL | 33334
North Shore Medical Center | 1100 NW 95th Street |  | Miami | FL | 33150
North Shore Medical Center - Salem Hospital | 81 Highland Avenue | Davenport 5 | Salem | MA | 01970
North Shore University Hospital | 300 Community Drive |  | Manhasset | NY | 11030
North Vista Hospital | 1409 E. Lake Mead Boulevard |  | North Las vegas | NV | 89030
Northeast Alabama Regional Medical Center | PO Box 2208 | 400 East 10th Street | Anniston | AL | 36202
Northeast Baptist Hospital | 730 Main Street | Suite 409 | San Antonio | TX | 78205
Northeast Georgia Medical Center | 743 Spring Street |  | Gainesville | GA | 30501
NorthEast Medical Center | 920 Church Street North |  | Concord | NC | 28025
Northeast Methodist Hospital | 12412 Judson Road |  | Live Oak | TX | 78233
Northern Illinois Medical Center | 4201 Medical Center Drive |  | McHenry | IL | 60050
Northern Michigan Regional Hospital | 416 Connable Avenue |  | Petoskey | MI | 49770
Northlake Medical Center | 1455 Montreal Road |  | Tucker | GA | 30084
Northridge Hospital Medical Center | 18300 Roscoe Avenue |  | Northridge | CA | 91325
Northshore Regional Medical Center | 100 Medical Center Drive |  | Slidell | LA | 70461
Northside Hospital | 1000 Johnson Ferry Road |  | Atlanta | GA | 30342
Northside Hospital | 6000 49th Street, N |  | Pinellas Park | FL | 33709
Northside Hospital - Forsyth | 1200 Northside Forsyth Drive |  | Cumming | GA | 30041
Northwest Community Hospital | 800 W. Central Road |  | Arlington Heights | IL | 60005
Northwest Hospital | 1550 North 115th Street |  | Seattle | WA | 98113
Northwest Hospital Center | 5401 Old Court Road |  | Randallstown | MD | 21133
Northwest Medical Center | 2801 N. State Road 7 |  | Margate | FL | 33063
Northwest Medical Center | Northwest Medical Center | 6200 N. La Cholla Boulevard | Tucson | AZ | 85741
Northwest Medical Center - Bentonville | 3000 Medical Center Parkway |  | Bentonville | AR | 72712
Northwest Arkansas Hospitals LLC, dba NMC | 609 West Maple Street |  | Springdale | AR | 72764
Northwest Mississippi Regional Medical Center | 1970 Hospital Drive |  | Clarksdale | MS | 38614
Northwest Texas Healthcare System | 3501 Soncy Road | Suite 118 | Amarillo | TX | 79119
Northwestern Memorial Hospital | 676 N. St. Clair Street, Suite 1700 |  | Chicago | IL | 60611
Norton Audubon | PO Box 35070 |  | Louisville | KY | 40232
Norton Hospital | PO Box 35070 |  | Louisville | KY | 40232
Norwalk Hospital | 24 Stevens Street |  | Norwalk | CT | 06856
NYU Medical Center | 560 First Avenue |  | New York | NY | 10016
Oak Hill Hospital | 11375 Cortez Boulevard |  | Brooksville | FL | 34613
Oakwood Hospital & Medical Center | 18101 Oakwood Boulevard Suite 124 |  | Dearborn | MI | 48124
Obici Hospital | 2800 Godwin Boulevard |  | Suffolk | VA | 23434
Ocala Regional Mecical Center | 1431 SW First Avenue |  | Ocala | FL | 34474
Ocean Springs Hospital | 3109 Bienville Boulevard |  | Ocean Springs | MS | 39564
Ochsner Bapatist Medical Center Ochsner Health System | 2700 Napoleon Avenue |  | New Orleans | LA | 70115
Ochsner Medical Center - Baton Rouge | 17000 Medical Center Drive |  | Baton Rouge | LA | 70816
Ochsner Medical Center - West Bank | 2500 Belle Chasse Highway |  | Gretna | LA | 70056
Ochsner Medical Center - Kenner (Kenner Regional Medical Center) | 180 West Esplanade Avenue |  | Kenner | LA | 70065
Ochsner Medical Foundation | 1514 Jefferson Highway |  | New Orleans | LA | 70121
Oconee Regional Medical Center | 812 N. Cobb Street |  | Milledgeville | GA | 31061
O'Connor Hospital | 2105 Forest Avenue |  | San Jose | CA | 95128
Odessa Regional Hospital | 520 East Sixth Street |  | Odessa | TX | 79760
Ogden Regional Medical Center | 5475 South 500 East |  | Ogden | UT | 84403
Ohio State University Medical Center | 410 W. 10th Avenue | 142 Doan Hall | Columbus | OH | 43210-1228
Ohio Valley Medical Center | 2000 Eoff Street |  | Wheeling | WV | 26003
Oklahoma Heart Hospital | 4050 W. Memorial Road |  | Oklahoma City | OK | 73120
Oklahoma State University Medical Center | 744 W. 9th Street |  | Tulsa | OK | 74127
Olathe Medical Center | 20333 W. 151st Street |  | Olathe | KS | 66061-7211
Opelousas General Health System | 539 E. Prudhomme Street |  | Opelousas | LA | 70570
Orange Coast Memorial Medical Center | 9920 Talbert Avenue |  | Fountain Valley | CA | 92708
Orange Regional Medical Center | 60 Prospect Avenue |  | Middletown | NY | 10940
Oregon Health & Science University | 3181 SW Sam Jackson Road |  | Portland | OR | 97239
Orlando Regional Medical Center | 1414 Kuhl Avenue |  | Orlando | FL | 32806
Osceola Regional Medical Center | 700 W. Oak Street |  | Kissimmee | FL | 34745
OSF Saint Anthony Medical Center | 5666 East State Street |  | Rockford | IL | 61108
OSF Saint Joseph Medical Center | 2200 E. Washington Street |  | Bloomington | IL | 61701
OSF Saint Francis Medical Center | 530 N.E. Glen Oak Avenue |  | Peoria | IL | 61637
OU MEDICAL CENTER | 700 NE 13th Street |  | Oklahoma City | OK | 73104
Our Lady of Lourdes Medical Center | 1600 Haddon Avenue |  | Camden | NJ | 08103
Our Lady of Lourdes Regional Medical Center | 611 Saint Landry Street PO Box 4027 |  | Lafayette | LA | 70506
Our Lady of The Lake Regional | 5000 Hennessy Boulevard |  | Baton Rouge | LA | 70808-4350
Our Lady of the Resurrection Medical Center | 5645 W. Addison Street |  | Chicago | IL | 60634
Overlake Hospital Medical Center | 1035 116th Avenue NE |  | Bellevue | WA | 98004
Overland Park Regional Medical Center/Health Midwest | 10500 Quivira Road |  | Overland Park | KS | 66215
Owensboro Medical Health System | 811 E. Parrish Avenue |  | Owensboro | KY | 42303
Ozarks Medical Center | Ozarks Medical Center | PO Box 1100 | West Plains | MO | 65775
P and S Surgical Hospital | 312 Grammont Street |  | Monroe | LA | 71201
Palm Beach Gardens Medical Center | 3360 Burns Road |  | Palm Beach Gardens | FL | 33410
Palmetto General Hospital | 2001 West 68th Street |  | Hialeah | FL | 33016
Palmetto Health Heart Hospital | 6 Richland Medical Park Drive | Suite 4525 | Columbia | SC | 29203
Palomar Medical Center | 555 East Valley Parkway |  | Escondido | CA | 92025
Palos Community Hospital | 12251 S. 80th Avenue | Cardiovascular Services | Palos Heights | IL | 60463-0930
Paoli Hospital | 557 Lankenau MOB East | 100 Lancaster Avenue | Wynnewood | PA | 19096
Paradise Valley Hospital | 3929 E. Bell Road |  | Phoenix | AZ | 85032
Paradise Valley Hospital | 2400 E. Fourth Street |  | National City | CA | 91950
Paris Regional Medical Center | 820 Clarksville Street |  | Paris | TX | 75460
Park Plaza Hospital | 1313 Hermann Drive |  | Houston | TX | 77004
Parkland Health and Hospital Systems | 5201Harry Hines Boulevard |  | Dallas | TX | 75235
Parkridge Medical Center | 2333 McCallie Avenue |  | Chattanooga | TN | 37404
Parkview Hospital | 2200 Randallia Drive |  | Fort Wayne | IN | 46805
Parkview Medical Center | 400 W. 16th Street |  | Pueblo | CO | 81003
Parkway Regional Medical Center | 160 NW 170th Street |  | North Miami | FL | 33169
Parkwest Medical Center | 9352 Parkwest Boulevard |  | Knoxville | TN | 37923
Parma Community General Hospital | 7007 Powers Boulevard |  | Parma | OH | 44129
Parrish Medical Center | 951 N. Washington Avenue |  | Titusville | FL | 32796
Pasco Regional Medical Center | 13000 100 Fort King Road |  | Dade City | FL | 33525
PBI Regional Medical Center | 350 Boulevard |  | Passaic | NJ | 07055
Peace River Regional Medical | 2500 Harbor Boulevard |  | Port Charlotte | FL | 33952
Peconic Bay Medical Center | 1300 Roanoake Avenue |  | Riverhead | NY | 11901
Peninsula Regional Medical Center | 100 East Carroll Street |  | Salisbury | MD | 21801
Penn Presbyterian Medical Center | 39th & Market Streets |  | Philadelphia | PA | 19104
Penn State Hershey Medical Center | PO Box 850 H139 |  | Hershey | PA | 17033
Pennsylvania Hospital | 800 Spruce Street |  | Philadelphia | PA | 19107-6192
Penrose - St. Francis Health Services | 2222 North Nevada, #220 |  | Colorado Springs | CO | 80907
Phelps County Regional Medical Center | 1000 W. 10th Street |  | Rolla | MO | 65401
Phoenix Baptist Hospital | 2000 W. Bethany Home Road |  | Phoenix | AZ | 85015
Phoenixville Hospital | 140 Nutt Road |  | Phoenixville | PA | 19460-3906
Physicians Medical Center Carraway | 1600 Carraway Boulevard |  | Birmingham | AL | 35234
Piedmont Hospital | 95 Collier Road Suite 2075 |  | Atlanta | GA | 30309
Piedmont Medical Center | 222 S. Herlong Avenue |  | Rock Hill | SC | 29732
Pikesville Medical Center | 911 Bypass Road |  | Pikesville | KY | 41501
Pinnicle Health Invasive Cardiology | 111 South Front Street |  | Harrisburg | PA | 17101-2099
Pioneer Valley Hospital | 3590 West 9000 South, Suite 315 |  | West Jordan | UT | 84088
Pitt County Memorial Hospital | 300 Moye Boulevard |  | Greenville | NC | 27834
Plantation General Hospital | 401 NW 42nd Avenue |  | Plantation | FL | 33317
Plaza Medical Center of Fort Worth | 900 Eighth Avenue |  | Fort Worth | TX | 76104
Pocono Medical Center | 206 East Brown Street |  | East Stroudsburg | PA | 18301
Pomona Valley Hospital Med Center | 1798 N. Garey Avenue |  | Pomona | CA | 91768
Pontiac Osteopathic Hospital | 50 N. Perry Street |  | Pontiac | MI | 48342
Poplar Bluff Regional Medical Center | 2620 N. Westwood Boulevard |  | Poplar Bluff | MO | 63901
Port Huron Hospital | 1221 Pine Grove Avenue |  | Port Huron | MI | 48060
Porter Adventist Hospital | 2525 S. Downing Street |  | Denver | CO | 80210-5817
Porter Valparaiso Hospital Campus | 814 Laporte Avenue |  | Valparaiso | IN | 46383
Portneuf Medical Center | 651 Memorial Drive |  | Pocatello | ID | 83201
Portsmouth Regional Hospital | 333 Borthwick Avenue |  | Portsmouth | NH | 03801
Prairie Lakes Healthcare | 401 9th Avenue |  | Watertown | SD | 57201
Presbyterian Healthcare Services | PO Box 26666 |  | Albuquerque | NM | 87125
Presbyterian Hospital - Denton | 3000 I-35 N |  | Denton | TX | 76201
Presbyterian Hospital - Dallas | Presbyterian Hospital | 8200 Walnut Hill Lane | Dallas | TX | 75231
Presbyterian Hospital - Plano | 6200 West Parker Road |  | Plano | TX | 75093-7914
Presbyterian Intercommunity Hospital | 12401 Washington Boulevard |  | Whittier | CA | 90602
Presbyterian/St.Luke's Medical Center | 1719 E. 19th Avenue |  | Denver | CO | 80218-1235
Prince George's Hospital Center | 3001 Hospital Drive |  | Cheverly | MD | 20785
Princeton Baptist Medical Center | Princeton BMC, Nursing Administration 701 Princeton Avenue, SW |  | Birmingham | AL | 35211-1399
Proctor Hospital | 5409 N. Knoxville Avenue |  | Peoria | IL | 61614
Protestant Memorial Medical Center | 4500 Memorial Drive |  | Belleville | IL | 62226
Provena Covenant Medical Center | 1400 West Park Street |  | Urbana | IL | 61801-9901
Provena Mercy Medical Center | 1325 North Highland Avenue |  | Aurora | IL | 60506
Provena Saint Joseph Medical Center | 333 North Madison Street |  | Joliet | IL | 60435-6595
Provena Saint Marys Hospital | 500 West Court Street |  | Kankakee | IL | 60901
Provena St. Joseph Hospital | 77 N. Airlite Street |  | Elgin | IL | 60123
Providence Alaska Medical Center | 3200 Providence Drive |  | Anchorage | AK | 99508-4662
Providence Everett Medical Center | 1321 Coby Avenue | PO Box 1147 | Everett | WA | 98206-1147
Providence Health Center | 6901 Medical Parkway |  | Waco | TX | 76712
Providence Holy Cross Medical Center | 501 South Buena Vista Street |  | Burbank | CA | 91505
Providence Hospital | 6801 Airport Boulevard |  | Mobile | AL | 36608
Providence Hospital | 2435 Forest Drive |  | Columbia | SC | 29204
Providence Medford Medical | 1111 Crater Lake Avenue |  | Medford | OR | 97504
Providence Medical Center | 8929 Parallel Parkway |  | Kansas City | KS | 66112-1689
Providence Memorial Hospital | 2001 North Oregon Street |  | El Paso | TX | 79902
Providence Portland Medical Center | 9205 SW Barnes Road | 9205 South West Barnes Road | Portland | OR | 97225
Providence Saint Joseph Medical Center | 501 South Buena Vista Street |  | Burbank | CA | 91505
Providence Saint Vincent Medical Center | Regional Heart Data Services | 9205 South West Barnes Road #33 | Portland | OR | 97225
Providence St. Peter Hospital | 413 N. Lilly Road |  | Olympia | WA | 98506
Putnam Hospital Center | 670 Stoneleigh Avenue |  | Carmel | NY | 10512
Queen of the Valley Medical Center | 1000 Trancas Street |  | Napa | CA | 94558
Queens Medical Center | 1301 Punchbowl Street |  | Honolulu | HI | 96813
Rancho Spring Medical Center | 36485 Inland Valley Drive |  | Wildomar | CA | 92595
Rankin Medical Center | 350 Crossgates Boulevard |  | Brandon | MS | 39042
Rapid City Regional Hospital | 353 Fairmont Boulevard |  | Rapid City | SD | 57702
Rapides Regional Medical Center | 211 4th Street Box 30101 |  | Alexandria | LA | 71301
Redmond Regional Medical Center | 501 Redmond Road |  | Rome | GA | 30165
Reedsburg Area Medical Center | 2000 N. Dewey Avenue |  | Reedsburg | WI | 53959
Regents of the University of Michigan | 300 N. Ingalls Street 7A10 |  | Ann Arbor | MI | 48109
Regional Hospital of Jackson | 367 Hospital Boulevard |  | Jackson | TN | 38305
Regional Medical Center | 225 N. Jackson Avenue |  | San Jose | CA | 95116
Regional Medical Center | 3000 St. Matthews Road |  | Orangeburg | SC | 29118
Regional Medical Center | 900 Hospital Drive |  | Madisonville | KY | 42431-1644
Regional Medical Center Bayonet Point | 14000 Fivay Road |  | Hudson | FL | 34667
Regions Hospital | 640 Jackson Street | Mail Stop 11102-M | St. Paul | MN | 55101
Reid Hospital & Healthcare Services | 1401 Chester Boulevard |  | Richmond | IN | 47374
Renown Regional Medical Center | 1155 Mill Street | R 11 | Reno | NV | 89502
Research Medical Center | 2316 East Meyer Boulevard | Cardiology Services | Kansas City | MO | 64132
Reston Hospital Center | 1850 Town Center Parkway |  | Reston | VA | 20190
Resurrection Medical Center | 7435 Talcott Avenue |  | Chicago | IL | 60631
Rex Hospital | 4420 Lake Boone Trail |  | Raleigh | NC | 27607
Rhode Island Hospital | 593 Eddy Street |  | Providence | RI | 02903
Richardson Regional Medical Center | 401 W. Campbell Road |  | Richardson | TX | 75080
Richmond University Medical Center | 355 Bard Avenue |  | Staten Island | NY | 10310
Riddle Memorial Hospital | 1068 W. Baltimore Pike |  | Media | PA | 19063-5177
Rideout Memorial Hospital | 726 4th Street |  | Maryville | CA | 95901
Ridgecrest Regional Hospital | 1081 N. China Lake Boulevard |  | Ridgecrest | CA | 93555
Riley Hospital | 1102 Constitution Avenue |  | Meridian | MS | 39301
Rio Grande Regional Hospital | 101 E. Ridge Road |  | McAllen | TX | 78503
River Oaks Hospital | 1030 River Oaks Drive |  | Flowood | MS | 39232
River Region Medical Center | 2100 Highway 61 North |  | Vicksburg | MS | 39183
Riverside Community Hospital | 4445 Magnolia Avenue |  | Riverside | CA | 92501
Riverside Medical Center | 350 N. Wall Street |  | Kankakee | IL | 60901
Riverside Methodist Hospital | 3535 Olentangy River Road |  | Columbus | OH | 43214
Riverside Regional Medical Center | 500 J Clyde Morris Boulevard |  | Newport News | VA | 23601
Riverview Hospital | 395 Westfield Road |  | Noblesville | IN | 46060
Riverview Regional Medical Center | 600 South Third Street | PO Box 268 | Gadsden | AL | 35901
Robert Packer Hospital | 1 Guthrie Square |  | Gadsden | AL | 18840
Robinson Memorial Hospital | 6847 N. Chestnut Street |  | Ravenna | OH | 44266
Rochester General Hospital | 1425 Portland Avenue |  | Rochester | NY | 14621
Rockford Memorial Hospital | 2400 North Rockton Avenue |  | Rockford | IL | 61103
Rogue Valley Medical Cent | 2825 E. Barnett Road | Performance Improvement Dept. | Medford | OR | 97504
Roper Hospital | 316 Calhoun Street |  | Charleston | SC | 29401
Rose Medical Center | 4567 E. 9th Avenue |  | Denver | CO | 80220-3941
Round Rock Medical Center | 2400 Round Rock Medical Center |  | Round Rock | TX | 78681
Rush Hospital | 1314 19th Avenue |  | Meridian | MS | 39301
Rush North Shore Medical Center | 9600 Gross Point Road |  | Skokie | IL | 60076
Rush Oak Park Hospital | 520 South Maple Avenue |  | Oak Park | IL | 60304-1097
Rush University Medical Center | 1653 West Congress Parkway |  | Chicago | IL | 60612
Rush-Copley Medical Center Attn: Health Science Library | 2000 Ogden Avenue |  | Alexander City | AL | 60504
Russell Medical Center | 3316 Highway 280 PO Box 939 |  | Alexander City | AL | 35011
Rutland Regional Medical Center | 160 Allen Street |  | Rutland | VT | 05701
Sacred Heart Hospital of Pensacola | 5151 North 9th Avenue |  | Pensacola | FL | 32504-8721
Sacred Heart Hospital Attn: A/P | 900 W. Clairemont Avenue |  | Eau Claire | WI | 54701
Sacred Heart Medical Center | 770 E. 11th Avenue |  | Eugene | OR | 97401
Sacred Heart Medical Center | 101 W. Eighth Avenue |  | Spokane | WA | 99204
Saddleback Memorial Medical Center | 24451 Health Center Drive |  | Laguna Hills | CA | 92653
Saint Anthony Medical Center | 1201 S. Main Street |  | Crown Point | IN | 46307
Saint Bernadine Medical Center | 2101 N. Waterman Avenue | 2101 N. Waterman Avenue | San Bernadino | CA | 92404-4836
Saint Clare's Hospital | 611 St. Joseph's Avenue |  | Marshfield | WI | 54449
Saint Elizabeth Health Center | 1044 Belmont Avenue |  | Youngstown | OH | 44511
Saint Elizabeth Hospital | 2700 W. 9th Avenue Suite 107 |  | Oshkosh | WI | 54904
Saint Elizabeth Medical Center-South | 1 Medical Village Drive |  | Edgewood | KY | 41017-3403
Saint Elizabeth Regional Medical Center | 555 S. 70th Street |  | Lincoln | NE | 68510-2462
Saint Elizabeth's Hospital | 211 South 3rd Street |  | Belleville | IL | 62220-1915
Saint Francis Hospital | 2122 Manchester Expressway |  | Columbus | GA | 31904
Saint Francis Hospital | 5959 Park Avenue |  | Memphis | TN | 38119
Saint Francis Hospital | 6161 S. Yale Avenue |  | Tulsa | OK | 74136
Saint Francis Hospital & Health Center | 8111 S. Emerson Avenue |  | Indianapolis | IN | 46237
Saint Francis Hospital & Medical Center | 114 Woodland Street |  | Hartford | CT | 06105
Saint Francis Hospital of Evanston | 355 Ridge Avenue |  | Evanston | IL | 60202
Saint John Hospital & Medical Center | 22151 Moross Road | Professional Bldg #1, #126 | Detroit | MI | 48236-2148
Saint John Macomb-Oakland Hospital | 11800 E. 12 Mile Road | Room # 2510 | Warren | MI | 48093
Saint Johns Health Center | 1328 Twenty-Second Street |  | Santa Monica | CA | 90404
Saint Johns Mercy Medical Center | 615 S. New Ballas Road |  | St. Louis | MO | 63141
Saint Joseph - London | 310 East 9th Street |  | London | KY | 40741
Saint Joseph Hospital | 2900 N. Lake Shore Drive |  | Chicago | IL | 60657-6274
Saint Joseph Hospital | Saint Joseph Hospital & Medical Center | 350 West Thomas Road | Phoenix | AZ | 85013
Saint Joseph Hospital | 1100 W. Steward Drive |  | Orange | CA | 92868
Saint Joseph Hospital | 2700 Dolbeer Street |  | Eureka | CA | 95501
Saint Joseph Hospital | 3001 W. Martin Luther King Boulevard |  | Tampa | FL | 33607
Saint Joseph Regional Health Center | 2801 Franciscan Street |  | Bryan | TX | 77802-2544
Saint Joseph's Hospital | 1824 Murdoch Avenue |  | Parkersburg | WV | 26102-0327
Saint Josephs Hospital / Marshfield Clinic | 611 St. Joseph Avenue |  | Marshfield | WI | 54449-1832
Saint Joseph's Hospital of Atlanta | 5665 Peachtree Dunwoody Road |  | Atlanta | GA | 30342
Saint Louis University Hospital | 3635 Vista at Grand |  | Saint Louis | MO | 63110
Saint Luke's East - Lee's Summit | 100 NE Saint Luke's Boulevard |  | Lee's Summit | MO | 64086
Saint Luke's Hospital | 1026 A Avenue, North East |  | Cedar Rapids | IA | 52406-3026
Saint Luke's Hospital | 4401 Wornall Road (MAHI 5th Floor) |  | Kansas City | MO | 64111
Saint Luke's Northland | Saint Luke's Hospital | 4401 Wornall Road | Kansas City | MO | 64111
Saint Luke's Hospital | 232 S. Woods Mill Road |  | Chesterfield | MO | 63017-3417
Saint Luke's Regional Medical Center | 190 E. Bannock Street |  | Boise | ID | 83712-6241
Saint Margaret Mercy | 5454 Hohman Avenue |  | Hammond | IN | 46320
Saint Mary Corwin Medical Center | 1008 Minnequa Avenue |  | Pueblo | CO | 81004-3798
Saint Mary Mercy Hospital | 36475 West Five Mile Road |  | Livonia | MI | 48154
Saint Mary's Hospital | 56 Franklin Street |  | Waterbury | CT | 06706
Saint Mary's Hospital and Regional Medical Center | 2635 N. 7th Street |  | Grand Junction | CO | 81501-8209
Saint Mary's Medical Center | 2900 First Avenue |  | Huntington | WV | 25702
Saint Mary's Medical Center | 3700 Washington Avenue |  | Evansville | IN | 47750
Saint Mary's Regional Medical Center | 235 W. Sixth Street |  | Reno | NV | 89503
Saint Peter's Hospital | 315 South Manning Boulevard |  | Albany | NY | 12208
Saint Rita's Medical Center | 730 West Market Street |  | Lima | OH | 45801-4602
Saint Rose Dominican - Siena Campus | 3001 St. Rose Parkway |  | Henderson | NV | 89052
Saint Thomas Health Care Services | 4220 Harding Road |  | Nashville | TN | 37202-0380
Saint Vincent Health Center | 252 West 25th Street |  | Erie | PA | 16544
Saint Vincent Hospital | 123 Summer Street | Suite 270 | Worcester | MA | 01608
Saint Vincent Hospital Manhattan | 170 W. 12th Street |  | New York | NY | 10011
Saint Vincent Medical Center/Health Center | 2 St. Vincent Circle |  | Little Rock | AR | 72205
Saint Vincent's Medical Center | 2800 Main Street |  | Bridgeport | CT | 06606
Salem Hospital (Regional Health Services) | 665 Winter Street SE |  | Salem | OR | 97301-3919
Salina Regional Health Center | 400 S. Santa Fe Avenue |  | Salina | KS | 67401
Salinas Valley Memorial Hospital | 450 E. Romie Lane |  | Salinas | CA | 93901-4098
Salt Lake Regional Medical Center | 1050 E South Temple |  | Salt Lake City | UT | 84102
San Antonio Community Hospital | 999 San Bernardino Road |  | Upland | CA | 91786
San Francisco Heart and Vascular Institute | 1900 Sullivan Avenue |  | Daly City | CA | 94015
San Jacinto Methodist Hospital | 4401 Garth Road |  | Baytown | TX | 77521
San Joaquin Community Hospital | 2615 Eye Street |  | Bakersfield | CA | 93301
San Joaquin General Hospital | 500 W. Hospital Road |  | French Camp | CA | 95231
San Juan Regional Medical Center | 801 W. Maple Street |  | Farmington | NM | 87401
San Ramon Regional Medical Center | 6001 Norris Canyon Road |  | San Ramon | CA | 94583
Sand Lake Hospital | 1414 Kuhl Avenue |  | Orlando | FL | 32806
Sanford USD Medical Center | 900 East 54th Street |  | Sioux Falls | SD | 57104
Santa Barbara Cottage Hospital | PO Box 689 |  | Santa Barbara | CA | 93102-0689
Santa Rosa Memorial Hospital | 1165 Montgomery Drive PO Box 522 |  | Santa Rosa | CA | 95402
Santa Theresa Community Hospital | 250 Hospital Parkway 1st Floor Cath Office |  | San Jose | CA | 95119
Sarasota Memorial Hospital | 1700 S. Tamiami Trail |  | Sarasota | FL | 34239
Satilla Heart Center | 410 Darling Avenue |  | Waycross | GA | 31501
Savoy Medical Center | 801 Poincianna Street |  | Mamou | LA | 70554
Scott and White Hospital | 2401 South 31st Street |  | Temple | TX | 76508
Scottsdale Healthcare Osborn | 7400 E. Osborn Road |  | Scottsdale | AZ | 85260
Scottsdale Healthcare Shea | 9003 E. Shea Boulevard - Administration |  | Scottsdale | AZ | 85260
Scottsdale Healthcare Thompson Peak | 7400 E. Osborn Road |  | Scottsdale | AZ | 85251
Scripps Green Hospital - La Jolla | 10666 North Torrey Pines Road |  | La Jolla | CA | 92037
Scripps Memorial Hospital Encinitas | 354 Santa Fe Drive |  | Encinitas | CA | 92024
Scripps Memorial Hospital - La Jolla | 9888 Genessee Avenue |  | La Jolla | CA | 92037
Scripps Mercy Hospital - San Diego | 4077 5th Avenue | MER 74 | San Diego | CA | 92103
Scripps Mercy Hospital - Chula Vista | 435 H Street |  | Chula Vista | CA | 91910
Sebastian River Medical Center | 13695 US Highway 1 |  | Sebastian | FL | 32962
Self Regional Healthcare | 1325 Spring Street |  | Greenwood | SC | 29646
Sentara Norfolk General Hospital | 600 Gresham Drive |  | Norfolk | VA | 23507
Sentara Obici Hospital | 2800 Goodwin Boulevard |  | Suffolk | VA | 23434
Sentara Virginia Beach General Hospital | 1060 First Colonial Road |  | Virginia Beach | VA | 23454-0685
Sequoia Hospital | Whipple and Alameda Avenues | 170 Alameda de Las Pulgas | Redwood City | CA | 94062
Seton Medical Center | 1201 W. 38th Street |  | Austin | TX | 78705
Shady Grove Adventist Hospital | 9901 Medical Center Drive |  | Rockville | MD | 20850
Shands at AGH | 801 SW 2nd Avenue |  | Gainesville | FL | 32601
Shands Jacksonville Medical Center | 655 West 8th Street |  | Jacksonville | FL | 32209
Sharon Regional Health System | 740 E. State Street |  | Sharon | PA | 16146
Sharp Chula Vista Medical Center | 8695 Spectrum Center Court |  | San Diego | CA | 92123
Sharp Grossmont | 5555 Grossmont Center Drive |  | La Mesa | CA | 91942
Sharp Memorial Hospital | 7901 Frost Street |  | San Diego | CA | 92123
Shasta Regional Medical Center | 1100 Butte Street |  | Redding | CA | 96001
Shawnee Mission Medical Center | 9100 West 74th Street |  | Shawnee Mission | KS | 66204-4004
Shelby Baptist Medical Center | 1000 First Street North |  | Alabaster | AL | 35007
Sherman Hospital | 934 Center Street | Decision Support | Elgin | IL | 60120
Shore Health System of Maryland | 219 South Washington Street |  | Easton | MD | 21601
Sierra Medical Center | 1625 Medical Center Drive |  | El Paso | TX | 79902
Sierra Vista Regional Medical Center | 1010 S. Murray Avenue |  | San Luis Obispo | CA | 93405
Silver Cross Hospital | 1200 Maple Road |  | Joliet | IL | 60432
Simi Valley Hospital & Health Care Services | 2975 North Sycamore Drive |  | Simi Valley | CA | 93065
Sinai - Grace Hospital | 6071 W. Outer Drive |  | Detroit | MI | 48235
Sinai Hospital of Baltimore | 2401 West Belvedere Avenue |  | Baltimore | MD | 21215-5271
Singing River Hospital | 3109 Bienville Boulevard |  | Ocean Springs | MS | 39564
Skaggs Community Health Center | PO Box 650 |  | Branson | MO | 65615-0650
Sky Ridge Medical Center | 10101 Ridgegate Parkway |  | Lone Tree | CO | 80124
Skyline Medical Center/ HTI Memorial Hospital Corp. | 3441 Dickerson Pike |  | Nashville | TN | 37207
Smith of Georgia, LLC d.b.a. Smith Northview Hospital | PO Box 10010 |  | Valdosta | GA | 31604
Somerset Hospital | 225 South Center Avenue |  | Somerset | PA | 15501-2088
Sound Shore Medical Center | 16 Guion Place |  | New Rochelle | NY | 10801
South Baldwin Regional Medical Center | 1613 N. McKenzie Street |  | Foley | AL | 36535
South Bay Hospital | 4016 Sun City Center Boulevard |  | Sun City Center | FL | 33570
South Crest Hospital | 8801 S. 101st E Avenue |  | Tulsa | OK | 74133
South Fulton Medical Center | 1170 Cleveland Avenue |  | East Point | GA | 30344
South GA Medical Center | PO Box 1727 |  | Valdosta | GA | 31603-1727
South Miami Hospital | 6200 SW 73rd Street |  | Miami | FL | 33143
South Nassau Communities Hospital | One Healthy Way |  | Oceanside | NY | 11572
South Shore Hospital | 55 Fogg Road |  | South Weymouth | MA | 02190-2432
Southampton Hospital | 240 Meetinghouse Lane |  | Southampton | NY | 11968
Southeast Alabama Medical Center | 1108 Ross Clark Circle |  | Dothan | AL | 36301
Southeast Baptist Hospital | 730 North Main Avenue | Suite 409 | San Antonio | TX | 78205
Southeast Missouri Hospital | 1701 Lacey Street |  | Cape Girardeau | MO | 63701
Southern Hills Hospital | 9300 West Sunset Road |  | Las Vegas | NV | 89148
Southern New Hampshire Medical Center | 8 Prospect Street |  | Nashua | NH | 03060
Southern Ohio Medical Center | 1805 27th Street |  | Portsmouth | OH | 45662
Southern Regional Medical Center | 11 Upper Riverdale Road SW |  | Riverdale | GA | 30274
Southlake Hospital | 1099 Citrus Tower Boulevard |  | Clermont | FL | 34711
Southside Hospital | 301 East Main Street |  | Bayshore | NY | 11706
Southwest Florida Regional Medical Center | 636 Del Prado Boulevard Suite 104 |  | Cape Coral | FL | 33990
Southwest General Health Center | 18697 Bagley Road |  | Middleburg Heights | OH | 44130-3417
Southwest General Hospital | 7400 Barlite Boulevard |  | San Antonio | TX | 78224
Southwest Medical Center | 2810 Ambassador Caffrey Parkway |  | Lafayette | LA | 70506
Southwest MS Regional Medical Center | 303 Marion Avenue |  | McComb | MS | 39648
Southwest Washington Medical Center | 600 NE 92nd Avenue |  | Vancouver | WA | 98664
Southwestern Medical Center | 5602 SW Lee Boulevard |  | Lawton | OK | 73505
Spalding Regional Medical Center | 601 South 8th Street |  | Griffin | GA | 30224
Sparks Regional Medical Center | P O Box 17006 | 1001 Towson | Fort Smith | AR | 72917-7006
Sparrow Health System | 1215 East Michigan Avenue |  | Lansing | MI | 48909-7980
Spartanburg Regional Medical Center | 101 East Wood Street | Cardiac Cath Lab / 3rd Floor Heart Center | Spartanburg | SC | 29303
Spectrum Health | 100 Michigan Street NE | MC 037, Rm 3825A | Grand Rapids | MI | 49503-2560
Spring Branch Medical Center | 8850 Long Point Road |  | Houston | TX | 77055
Spring Valley Hospital | 5400 S. Rainbow Boulevard |  | Las Vegas | NV | 89118
Springfield Regional Medical Center - High Street Campus | 2615 W. High Street |  | Springfield | OH | 45505
Springfield Regional Medical Center, Fountain Camp | 1343 North Fountain Boulevard |  | Springfield | OH | 45503
Springhill Memorial Hospital | 3719 Dauphin Street |  | Mobile | AL | 36608
Springs Memorial Hospital | 800 West Meeting Street |  | Lancaster | SC | 29720
SSM St. Joseph Health Center | 300 First Capitol Drive |  | St. Charles | MO | 63301
SSM St. Joseph Hospital of Kirkwood | 525 Couch Avenue |  | Kirkwood | MO | 63122
St. Anthony Central Hospital | 4231 W. 16th Avenue |  | Denver | CO | 80204-1335
St. James Hospital and Health Centers | 20201 S. Crawford Avenu |  | Olympia Fields | IL | 60461
St. John's Hospital | 69 W. Exchange Street |  | St. Paul | MN | 55102
St. Joseph Hospital | 700 Broadway |  | Fort Wayne | IN | 46802
St. Joseph Hospital-Oakland | 44405 Woodward Avenue |  | Pontiac | MI | 48341-5023
St. Joseph Medical Center | 1717 South J Street |  | Tacoma | WA | 98405-4933
St. Josephs Hospital | 69 W. Exchange Street |  | St Paul | MN | 55102
St. Joseph Hospital Health Center | 301 Prospect Avenue |  | Syracuse | NY | 13203
St. Luke's Cornwall Hospital | 70 DuBois Street |  | Newburgh | NY | 12550
St. Mary's Health Care Systems | 1230 Baxter Street |  | Athens | GA | 30606
St. Mary's Hospital | 400 North Pleasant |  | Centralia | IL | 62801
St. Mary's Regional Medical Center | 305 S. 5th Street |  | Enid | OK | 73701
St. Vincent Mercy Medical Center | 2213 Cherry Street |  | Toledo | OH | 43608
St. Agnes Hospital | 900 Caton Avenue |  | Baltimore | MD | 21229
St. Agnes Hospital | 430 E. Division Street |  | Fond du lac | WI | 54935
St. Alexius Medical Center | 1555 Barrington Road |  | Hoffman Estates | IL | 60194-1018
St. Alphonsus Regional Medical Center | 1055 N. Curtis Road |  | Boise | ID | 83706
St. Anthony Hospital | 1000 N. Lee Avenue |  | Oklahoma City | OK | 73102
St. Anthony's Health Care | 1200 7th Avenue North | MS 2019 | St. Petersburg | FL | 33705
St. Anthony's Medical Center | 10010 Kennerly Road |  | St. Loius | MO | 63128-2106
St. Barnabas Medical Center | 94 Old Short Hills Road |  | Livingston | NJ | 07039
St. Bernards Medical Center | 225 E. Jackson Avenue |  | Jonesboro | AR | 72401
St. Catherine Hospital East Chicago | 1500 South Lake Park Avenue |  | Hobart | IN | 46342
St. Catherine of Siena | 50 Route 25A |  | Smithtown | NY | 11787
St. Charles Hospital | 200 Belle Terre Road |  | Port Jefferson | NY | 11777
St. Charles Medical Center | 2500 North East Neff Road |  | Bend | OR | 97701-6015
St. Clair Hospital | St. Clair Hospital | 1000 Bower Hill Road | Pittsburgh | PA | 15243
St. Cloud Regional Medical Center | 2906 17th Street |  | St. Cloud | FL | 34769
St. David's Medical Center | 919 East 32nd Street |  | Austin | TX | 78765
St. David's South Austin Hospital | 901 W. Ben White Boulevard |  | Austin | TX | 78704
St. Dominic-Jackson Memorial Hospital | 969 Lakeland Drive |  | Jackson | MS | 39216
St. Edwards Mercy Medical Center | 7301 Rogers Avenue |  | Ft. Smith | AR | 72917-7000
St. Elizabeth Hospital | 2233 W. Division Street |  | Chicago | IL | 60622
St. Elizabeth Hospital Medical Center | 1501 Hartford Street |  | Lafayette | IN | 47904
St. Elizabeth Medical Center | 2209 Genesee Street |  | Utica | NY | 13501
St. Francis Health Center | 1700 SW 7th Street |  | Topeka | KS | 66605
St. Francis Hospital | One St. Francis Drive |  | Greenville | SC | 29601
St. Francis Hospital | 701 N. Clayton Street |  | Wilmington | DE | 19805
St. Francis Hospital | 333 Laidley Street | PO Box 44 Culloden, WV 25510 | Charleston | WV | 25322
St. Francis Hospital | 100 Port Washington Boulevard |  | Roslyn | NY | 11576
St. Francis Medical Center | 211 Saint Francis Drive |  | Cape Girardeau | MO | 63703-5049
St. Francis Medical Center | 3630 Imperial Highway |  | Lynwood | CA | 90265
St. Francis Medical Center | 309 Jackson Street |  | Monroe | LA | 71201
St. Francis Medical Center | 601 Hamilton Avenue |  | Trenton | NJ | 08629
St. Francis North Hospital | 309 Jackson Street |  | Monroe | LA | 71201
St. Helena Hospital | 10 Woodland Road |  | St. Helena | CA | 94574
St. James Health Care | 400 South Clark Street |  | Butte | MT | 59701
St. John Medical Center | 1923 S. Utica Avenue | Heart Institute Education/Research | Tulsa | OK | 74104
St. John Medical Center | 1615 Delaware Street |  | Longview | WA | 98632
St. John Providence Hospital | 16001 W. Nine Mile Road |  | Southfield | MI | 48075
St. John West Shore Hospital | 29000 Center Ridge Road |  | Westlake | OH | 44145
St. John's Hospital | 800 E. Carpenter Street |  | Springfield | IL | 62769
St. John's Hospital | 1235 East Cherokee Street |  | Springfield | MO | 65804
St. John's Pleasant Valley Hospital | 2309 Antonio Avenue |  | Camarillo | CA | 93010
St. John's Queens Hospital | 90-02 Queens Boulevard |  | Elmhurst | NY | 11373
St. Johns Regional Medical Center | 2727 McClelland Boulevard |  | Joplin | MO | 64804
St. Johns Regional Medical Center | 1600 N. Rose Avenue |  | Oxnard | CA | 93030-3722
St. John's Riverside Hospital | 967 North Broadway | Health Information Services | Yonkers | NY | 10701
St. Joseph Hospital | 172 Kinsley Street |  | Nashua | NH | 03060
St. Joseph Hospital | 360 Broadway |  | Bangor | ME | 04401
St. Joseph Hospital | 1 Saint Joseph Drive |  | Lexington | KY | 40504
St. Joseph Hospital | 2901 Squalicum Parkway |  | Bellingham | WA | 98225
St. Joseph Intercommunity Hospital | 2605 Harlem Road |  | Cheektowaga | NY | 14225
St. Joseph Medical Center | 2200 E. Washington Street |  | Bloomington | IL | 61701
St. Joseph Medical Center | 12th & Walnut Streets |  | Reading | PA | 19603
St. Joseph Medical Center | 1401 St. Joseph Parkway |  | Houston | TX | 77002
St. Joseph Medical Center | 7601 Olser Drive |  | Towson | MD | 21204
St. Joseph Mercy Hospital | 5325 Elliot Drive |  | Ann Arbor | MI | 48106
St. Joseph Reg. Medical Center | 801 E. Lasalle Avenue |  | South Bend | IN | 46617
St. Joseph Regional Medical Center | 703 Main Street |  | Paterson | NJ | 07503
St. Joseph's Hospital | 11705 Mercy Boulevard |  | Savannah | GA | 31419
St. Joseph's Hospital | 350 N. Wilmot Road |  | Tucson | AZ | 85711
St. Joseph's Medical Center | 127 S. Broadway |  | Yonkers | NY | 10701
St. Josephs Medical Center of Stockton | 1805 North California Street Suite 303 | Suite #303 | Stockton | CA | 95204
St. Josephs Mercy Health Center | 300 Werner Drive |  | Hot Springs | AR | 71913
St. Jude Medical Center | 101 East Valencia Mesa |  | Fullerton | CA | 92835
St. Luke Hospital East | 85 N. Grand Avenue |  | Ft. Thomas | KY | 41075
St. Luke Hospital West | 7380 Turfway Road |  | Florence | KY | 41042
St. Luke's Baptist Hospital | 730 North Main Avenue | Suite 409 | San Antonio | TX | 78205
St. Luke's Community Medical Center (The Woodlands) | 17200 St. Luke's Way |  | The Woodlands | TX | 77384
St. Luke's Episcopal Hospital | 3100 Main Street | MC5-313 | Houston | TX | 77030
St. Lukes Hospital | 363 Higland Avenue |  | Falls River | MA | 02720
St. Lukes Hospital | 5901 Monclova Road |  | Maumee | OH | 43537
St. Luke's Hospital | 915 E. First Street |  | Duluth | MN | 55805
St. Luke's Hospital & Health Network | 940 Cherokee Street |  | Bethlehem | PA | 18015
St. Luke's Hospital and Health Network (Allentown Campus) | 1736 Hamilton Boulevard |  | Allentown | PA | 18104
St. Luke's Medical Center | 2901 West Oklahoma Avenue |  | Milwaukee | WI | 53215-4330
St. Luke's Medical Center | 1800 E. Van Buren Street |  | Phoenix | AZ | 85006
St. Luke's South Hospital | Saint Luke's Hospital | 4401 Wornal Road | Kansas City | MO | 64111
St. Luke's-Roosevelt Hospital Center | 1111 Amsterdam Avenue |  | New York City | NY | 10025
St. Mark's Hospital/ Northern Utah Healthcare Corporation | 1200 East 3900 South |  | Salt Lake City | UT | 84124
St. Mary Hospital | 1201 Langhorne Newton Road |  | Langhorne | PA | 19047
St. Mary Medical Center | 18300 Highway 18 |  | Appple Valley | CA | 92307
St. Mary Medical Center | 1050 Linden Avenue |  | Long Beach | CA | 90813-3321
St. Mary Medical Center | 1500 South Lake Park Avenue |  | Hobart | ID | 46342
St. Mary of Nazareth Hospital Center | 2233 W. Division Street |  | Chicago | IL | 60622
St. Mary's Health Center | 6420 Clayton Road |  | St. Louis | MO | 63117
St. Mary's Hospital | 1800 East Lake Shore Drive |  | Decatur | IL | 62521
St. Mary's Hospital | 1726 Shawano Avenue |  | Madison | WI | 54303-3282
St. Mary's Hospital | 707 S. Mills Street |  | Madison | WI | 53715-1849
St. Mary's Hospital (Passaic) | 350 Boulevard |  | Passaic | NJ | 07055
St. Mary's Medical Center | 901 45th Street |  | West Palm Beach | FL | 33407
St. Mary's Medical Center | 450 Stanyan Street |  | San Francisco | CA | 94117
St. Mary's Medical Center | 900 E. Oak Hill Avenue |  | Knoxville | TN | 37917
St. Mary's Medical Center | 407 East Third Street |  | Duluth | MN | 55805
St. Mary's of Michigan | 800 S. Washington Avenue |  | Saginaw | MI | 48601
St. Mary's Regional Medical Center | PO Box 291 Campus Avenue |  | Lewiston | ME | 04243-0291
St. Michael's Medical Center | 111 Central Avenue |  | Newark | NJ | 07102
St. Nicholas Hospital | 3100 Superior Avenue |  | Sheboygan | WI | 53081
St. Patrick Hospital and Health Sciences Center | 500 W. Broadway |  | Missoula | MT | 59802
St. Rose Dominican - De Lima Campus | 3001 Saint Rose Parkway |  | Henderson | NV | 89052
St. Rose Dominican - San Martin | 3001 Saint Rose Parkway |  | Henderson | NV | 89052
St. Rose Hospital | 27200 Calaroga Avenue |  | Hayward | CA | 94539
St. Tammany Parish Hospital | 1202 S. Tyler Street |  | Covington | LA | 70433
St. Vincent Charity Hospital | 2351 East 22nd Street |  | Cleveland | OH | 44115
St. Vincent Healthcare | 1233 N. 30th Street |  | Billings | MT | 59101
St. Vincent Hospital | 810 St. Vincents Drive |  | Birmingham | AL | 35205
St. Vincent Hospital | 835 S. Van Buren Street |  | Green Bay | WI | 54301
St. Vincent Medical Center | 2131 W. 3rd Street |  | Los Angeles | CA | 90703
St. Vincent's Medical Center | 1800 Barrs Street |  | Jacksonville | FL | 32204
St.Vincent's East | 50 Medical Park East Drive |  | Birmingham | AL | 35235-3499
Stamford Hospital Health Sciences Library | 30 Shelbourne Road PO Box 9317 |  | Stamford | CT | 06904-9317
Stanford Hospital and Clinics | Falk Building 2nd Floor 300 Pasteur Drive |  | Stanford | CA | 94305
Staten Island University Hospital | 475 Seaview Avenue |  | Staten Island | NY | 10305
Stony Brook University Medical Center | 3 Technology Drive |  | East Setauket | NY | 11733-4073
Stormont-Vail Regional Medical Center | 929 SW Mulvane Street |  | Topeka | KS | 66606
Straub Clinic & Hospital: Cath Lab | 888 S. King Street |  | Honolulu | HI | 96813
Stringfellow Memorial Hospital | 301 East 18th Street |  | Anniston | AL | 36202
Suburban Hospital | 8600 Old Georgetown Road |  | Bethesda | MD | 20814
Summerlin Hospital Medical Center | 657 Town Center Drive |  | Las Vegas | NV | 89144
Summit Healthcare Regional Medical Center | 2200 East Show Low Lake Road |  | Show Low | AZ | 85901
Summit Medical Center | East Main & South 20th Streets |  | Van Buren | AR | 72956
Summit Medical Center | 5655 Frist Boulevard |  | Hermitage | TN | 37076
Sun Coast Hospital | 2025 Indian Rocks Road S |  | Largo | FL | 33774-1096
Sunrise Hospital and Medical Center | 3186 S. Maryland Parkway |  | Las Vegas | NV | 89109
Sutter Delta Medical Center | 3901 Lone Tree Way |  | Antioch | CA | 94509
Sutter Medical Center - Sacramento | 5151 F Street 1 South | Transplant & Heart Specialty Clinics | Sacramento | CA | 95819
Sutter Medical Center of Santa Rosa | 3325 Chanate Road |  | Santa Rosa | CA | 95404
Swedish American Hospital | 1401 E. State Street |  | Rockford | IL | 61104
Swedish Covenant Hospital | 5145 N. California Avenue |  | Chicago | IL | 60625
Swedish Health Services | 500 17th Avenue #A85C |  | Seattle | WA | 98104
Swedish Medical Center | 501 East Hampden Avenue |  | Englewood | CO | 80113
T. J. Samson Community Hospital | 1301 North Race Street |  | Glasgow | KY | 42141
Tacoma General Hospital | 315 Martin Luther King, Jr. Way |  | Tacoma | WA | 98415
Tahlequah City Hospital | 1400 East Downing Street |  | Tahlequah | OK | 74465-1008
Tallahassee Memorial Hospital | 1300 Miccosukee Road | Attn: Performance Improvement | Tallahassee | FL | 32308
Tampa General Hospital | PO Box 1289 |  | Tampa | FL | 33601-1289
Temple University Hospital | 3401 North Broad Street | 1st Floor Room B - 150 | Philadelphia | PA | 19140
Terre Haute Regional Hospital | 3901 South 7th Street |  | Terre Haute | IN | 47802
Terrebonne General Medical Center | 8166 Main Street |  | Houma | LA | 70360
Texoma Medical Center | 1000 Memorial Drive |  | Denison | TX | 75020
TexSAn Heart Hospital | 6700 IH-10 West |  | San Antonio | TX | 78201-2009
The Christ Hospital | 2139 Auburn Avenue |  | Cincinnati | OH | 45219
The George Washington University Hospital | 900 23rd Street, NW |  | Washington | DC | 20037
The Good Samaritan Hospital | PO Box 1281 | 4th and Walnut Streets | Lebanon | PA | 17042
The Heart Hospital Baylor Plano | 1100 Allied Drive |  | Plano | TX | 75093
The Heart Hospital of Northwest Texas | 1501 S. Coulter Street | PO Box 1110 | Amarillo | TX | 79175
The Hospital at Westlake Medical Center | 5656 Bee Caves Road M-302 |  | Austin | TX | 78746
The Hospital of West Central Connecticut | 100 Grand Street PO Box 100 |  | New Britain | CT | 06050
The Indiana Heart Hospital | 8075 North Shadeland Avenue |  | Indianapolis | ID | 46250
The Medical Center (TMC) | 1000 Dutch Ridge Road |  | Beaver | PA | 15009
The Medical Center of Southeast Texas | 2555 Jimmy Johnson Boulevard |  | Port Arthur | TX | 77640
The Methodist DeBakey Heart Center | 6565 Fannin Street |  | Houston | TX | 77030
The Monroe Clinic | 515 22nd Avenue |  | Monroe | WI | 53566
The Mount Sinai Hospital of Queens | 25-11 30th Avenue |  | Long Island City | NY | 11102
The Mount Sinai Medical Center | The Mount Sinai Medical Center |  | New York | NY | 10029
The Nebraska Medical Center | 987551 Nebraska Medical Center |  | Omaha | NE | 68198
The Presbyterian Hospital | 200 Hawthorne Lane |  | Charlotte | NC | 28233
The Reading Hospital and Medical Center | Sixth Avenue and Spruce Street |  | West Reading | PA | 19611
The Toledo Hospital | 2142 North Cove Boulevard | Jobst Tower Suite 200 | Toledo | OH | 43606
The Valley Hospital | 223 North Van Dien Avenue |  | Ridgewood | NJ | 07450
The Village Regional Hospital |  |  |  | AR |
The Washington Hospital | 155 Wilson Avenue |  | Washington | PA | 15301-3398
The Western Pennsylvania Hospital | 4800 Friendship Avenue | CVI | Pittsburgh | PA | 15224
The Wisconsin Heart Hospital, Inc | WFH Clinical Data Management and Analysis | 5000 West Chambers, M229 | Milwaukee | WI | 53210
Thomas Hospital | 750 Morphy Avenue |  | Fairhope | AL | 36532
Thomas Jefferson University Hospital | TJUH | 111 S. 11th Street Gibbon Building | Philadelphia | PA | 19107
Tift Regional Medical Center | PO Box 747 | 901 E. 18th Street | Tifton | GA | 31794
Tobey Hospital | 363 Highland Avenue |  | Fall River | MA |
Tomball Regional Hospital | 605 Holderrieth Boulevard |  | Tomball | TX | 77375
Torrance Memorial Medical Center | 3330 Lomita Boulevard |  | Torrance | CA | 90505
Tri-City Medical Center | 4002 Vista Way |  | Oceanside | CA | 92056
Trident Regional Medical Center | 9330 Medical Plaza Drive |  | Charleston | SC | 29406
Trinity Hospitals | PO Box 5020 |  | Minot | ND | 58702
Trinity Medical Center | Attn: CardioVascular Services | 800 Montclair Road | Birmingham | AL | 35213
Trinity Medical Center | 2701 17th Street | 3rd Floor | Rock Island | IL | 61201
Trinity Medical Center West | 4000 Johnson Road |  | Steubenville | OH | 43952
Trinity Regional Medical Center | 802 Kenyon Road |  | Fort Dodge | IA | 50501
Trinity Regional Medical Center | 2701 17th Street | 3rd Floor | Rock Island | IL | 61201
Tucson Heart Hospital | 4888 North Stone Avenue |  | Tucson | AZ | 85704
Tucson Medical Center | 5301 E. Grant Road |  | Tucson | AZ | 85712
Tufts Medical Center | 750 Washington Street |  | Boston | MA | 02111
Tulane Medical Center | 1415 Tulane Avenue |  | New Orleans | LA | 70112
Tuomey Healthcare System Tuomey Regional Medical Center | 129 N. Washington Street |  | Sumter | SC | 29150
UC San Diego Medical Center | 200 W. Arbor Drive |  | San Diego | CA | 92103
UMASS Memorial Medical Center | 55 Lake Ave North |  | Worcester | MA | 01655-0002
Union Hospital | 1606 N. 7th Street |  | Terre Haute | IN | 47804
Union Memorial Hospital | 201 E. University Parkway |  | Baltimore | MD | 21218-2891
United Health Services Hospitals/Wilson Regional Medical Center | 33 - 57 Harrison Street | Decker 4 Lobby | Johnson City | NY | 13790
United Hospital | 333 N. Smith Avenue |  | St. Paul | MN | 55102
United Hospital Center, Inc | PO Box 1680 |  | Clarksburg | WV | 53143
United Hospital System | 6308 8th Avenue |  | Kenosha | WI | 53143
United Regional Healthcare System | 1600 11th Street |  | Wichita Falls | TX | 76301
Unity Health Center | 1102 West MacArthur |  | Shawnee | OK | 74804
Unity Hospital | 550 Osbourne Road NE |  | Minneapolis | MN | 55432
Unity Hospital | 1555 Long Pond Road |  | Rochester | NY | 14626
University Community Hospital | 3100 East Fletcher Avenue |  | Tampa | FL | 33613
University Community Hospital Carrollwood Campur | 3100 East Fletcher Avenue |  | Tampa | FL | 33613
University of Alabama Hospital | 620 19th Street South |  | Birmingham | AL | 35249
University Hospital | 234 Goodman Street |  | Cincinnati | OH | 45219
University Hospital | 1350 Walton Way |  | Augusta | GA | 30901
University Hospitals Bedford Medical Center | 44 Blaine Avenue |  | Bedford | OH | 44146
University Hospitals Case Medical Center | 11100 Euclid Avenue |  | Cleveland | OH | 44106
University Hospitals Richmond Medical Center | 27100 Chardon Road |  | Richmond Heights | OH | 44143
University Hospital UMDNJ | 150 Bergen Street |  | Newark | NJ | 07101
University Medical Center | 1501 N. Campbell Avenue |  | Tucson | AZ | 85724
University Medical Center | 1411 Baddour Parkway |  | Lebanon | TN | 37087
University Medical Center | 602 Indiana Avenue |  | Lubbock | TX | 79410
University Medical Center LSU | 2390 W. Congress Street |  | Lafayette | IA | 70506
University Medical Center Southern Nevada | 1800 W. Charleston Boulevard |  | Las Vegas | NV | 89102
University of Arkansas Medical Sciences | 4301 West Markham Street Suite 532 |  | Little Rock | AR | 72205
University of Califorina, Irvine Division of Cardiology | 101 The City Drive |  | Orange | CA | 92868
University of California (UCLA) | 757 Westwood Boulevard Rm. 2412 |  | Los Angeles | CA | 90095
University Of California Davis Medical Center | 2315 Stockton Boulevard Main Hospital, Rm 6312 |  | Sacramento | CA | 95817
University of California San Francisco Medical Center | 505 Parnassus Avenue L-523 Box 0210 |  | San Francisco | CA | 94143-0210
University of Chicago Hospitals | 5841 S. Maryland Avenue |  | Chicago | IL | 60637
University of Colorado Hospital Authority | 16205 E. 16th Avenue | Box 132 | Aurora | CO | 80045
University of CT Health Center/John Dempsey Hospital | 263 Farmington Avenue |  | Farmington | CT | 06030
University of Florida (Shands)College of Medicine | 1600 SW Archer Road |  | Gainesville | FL | 32610
University of Illinois Medical Center at Chicago | 1740 W. Taylor Street | Bldg 949 Rm 2181 | Chicago | IL | 60610
University of Iowa Hospitals and Clinics | 200 Hawkins Drive |  | Iowa City | IA | 52242
University of Kentucky | 800 Rose Street |  | Lexington | KY | 40536
University of Louisville Hospital | 530 S. Jackson Street |  | Loiusville | KY | 40202
University of Maryland Medical Center Cardiology | 22 S. Greene Street |  | Baltimore | MD | 21201-1544
University of Minnesota Medical Center Fairview | 420 Delaware Street SE MMC 815 |  | Minneapolis | MN | 55455
University of Mississippi Medical Center | 2500 N. State Street |  | Jackson | MS | 39216
University of Missouri Hospital and Clinics | 1 Hospital Drive |  | Columbia | MO | 65212
University of North Carolina Hospitals | UNC Hospitals | 101 Manning Drive CB#7075 | Chapel Hill | NC | 27514
University of Rochester Medical Center | 601 Elmwood Avenue |  | Rochester | NY | 14642
University of South Alabama Cardiology Department | 2451 Fillingim Street |  | Mobile | AL | 36617
University of Tennessee Medical Center | 1924 Alcoa Highway |  | Knoxville | TN | 37920-6999
University of Texas Medical Branch at Galveston | 301 University Boulevard |  | Galveston | TX | 77555-0294
University of Texas Southwestern-University Hospital | 5323 Harry Hines Boulevard |  | Dallas | TX | 75390-9013
University of Toledo Medical Center | 3065 Arlington Avenue | DH2261 | Toledo | OH | 43614
University of Utah Hospitals and Clinics | 50 North Medical Drive |  | Salt Lake City | UT | 84132
University of Virginia Medical Center | 2441 Barringer West Complex | PO Box 800679 | Charlottesville | VA | 22908-0679
University of Washington Medical Center | 1959 NE Pacific Street |  | Seattle | WA | 98195-6422
University of Wisconsin Hospital & Clinics | 600 Highland Avenue MC 3204 |  | Madison | WI | 53792
UPMC Mercy | 1400 Locust Street |  | Pittsburgh | PA | 15219
UPMC Passavant Hospital | 9100 Babcock Boulevard |  | Pittsburgh | PA | 15237
UPMC Presbyterian Hospital | 5230 Centre Avenue |  | Pittsburgh | PA | 15232
UPMC Shadyside Hospital | 5230 Centre Avenue |  | Pittsburgh | PA | 15232
Upper Chesapeake Medical Center, Inc | 500 Upper Chesapeake Drive |  | Bel Air | MD | 21014
Upstate Medical University (SUNY) | 750 East Adams Street |  | Syracuse | NY | 13120
USC University Hospital | 1500 San Pablo Street |  | Los Angeles | CA | 90033
Utah Valley Regional Medical Center | 1034 S. 500 W |  | Provo | UT | 84605
Val Verde Regional Medical Center | 801 Bedell Avenue |  | Del Rio | TX | 78840
Valley Baptist Medical Center | 2101 Pease Street |  | Harlingen | TX | 78550
Valley Care Medical Center | 1111 East Stanley Boulevard |  | Livermore | CA | 94550
Valley Hospital Medical Center | 620 Shadow Lane |  | Las Vegas | NV | 89106
Valley Medical Center | 400 South 43rd Street |  | Renton | WA | 98058
Valley Presbyterian Hospital | 15107 Vanowen Street |  | Van Nuys | CA | 91405
Valley Regional Medical Center | Valley Regional Medical Center | 100A East Alton Gloor Building | Brownsville | TX | 78526
Valley View Medical Center | 5330 S. Highway 95 |  | Fort Mohave | AZ | 86427
Vanderbilt Heart Institute | 1215 21st Avenue | MCE 5th floor | Nashville | TN | 37232
Vassar Brothers Medical Center | 45 Reade Place |  | Poughkeepsie | NY | 12601
Vaughan Regional Medical Center | 1015 Medical Center Parkway |  | Selma | AL | 36701
VCU - Medical College of Virginia | PO Box 980036 |  | Richmond | VA | 23298
Venice Regional Medical Center | 540 The Rialto |  | Venice | FL | 34285
Verde Valley Medical Center | 269 South Candy Lane |  | Cotttonwood | AZ | 86326
Verdugo Hills Hospital | 1812 Verdugo Boulevard |  | Glendale | CA | 91208
Via Christi Wichita Health Network | 929 N. St. Francis Street |  | Wichita | KS | 67214
Ville Platte Medical Center | 800 East Main Street |  | Ville Platte | LA | 70586
Virginia Hospital Center | 1701 N. George Mason Drive |  | Arlington | VA | 22205-3698
Virginia Mason Medical Center | 1100 Ninth Avenue | X3-CVL | Seattle | WA | 98111
Wadley Regional Medica Center | 1000 Pine Street |  | Texarkana | TX | 75501
WakeMed Cary Hospital | 3128 Smoketree Court |  | Raleigh | NC | 27604
WakeMed Raleigh Campus | 3000 New Bern Avenue |  | Raleigh | NC | 27610
Walker Regional Medical Center | 3400 Highway 78 E |  | Jasper | AL | 35501
Washington Adventist Hospital | 7600 Carroll Avenue |  | Takoma Park | MD | 20912
Washington County Hospital | 251 East Antietam Street |  | Hagerstown | MD | 21740
Washington Hospital | 2000 Mowry Avenue |  | Fremont | CA | 94538
Washington Hospital Center | 110 Irving Street NW Rm 5A14 |  | Washington | DC | 20010
Washington Regional Medical Center | 1125 N College Avenue |  | Fayetteville | AR | 72703-1994
Waterbury Hospital | PO Box 2153 |  | Waterbury | CT | 06722-2153
Watsonville Community Hospital | 75 Nielson Street |  | Watsonville | CA | 95076
Waukesha Memorial Hospital | 725 American Avenue |  | Waukesha | WI | 53188
Weatherford Regional Medical Center | 713 East Anderson Street |  | Weatherford | TX | 76086
Weiss Memorial Hospital | 4646 N. Marine Drive |  | Chicago | IL | 60640
Wellmont Holston Valley Medical Center | 130 W Ravine Road |  | Kingsport | TN | 37660
Wellstar Cobb Hospital | 677 Church Street |  | Marietta | GA | 30066
Wellstar Kennestone Hospital | 677 Church Street |  | Marietta | GA | 30066
Wesley Medical Center | 550 N. Hillside Street |  | Wichita | KS | 67214
Wesley Medical Center | 5001 Hardy Street |  | Hattiesburg | MS | 39402
West Anaheim Medical Center | 3033 West Orange Avenue |  | Anaheim | CA | 92084
West Florida Hospital | 8383 Davis Highway |  | Pensacola | FL | 32514
West Hills Hospital | 7300 Medical Center Drive |  | West Hills | CA | 91307
West Houston Medical Center | 12141Richmond Avenue |  | Houston | TX | 77082
West Jefferson Medical Center | 1101 Medical Center Boulevard |  | Marrero | LA | 70072
West Suburban Medical Center | 3 Erie Court |  | Oak Park | Il | 60302
West Valley Hospital | 13677 W. McDowell Road |  | Goodyear | AZ | 85338
West Virginia University Hospitals, Inc | PO Box 8003 | Medical Center Drive | Morgantown | WV | 26506-8003
Westchester County Medical Center | 95 Grasslands Road Suite 114 |  | Valhalla | NY | 10595
Western Arizona Regional Medical Center | 2735 Silver Creek Road |  | Bullhead City | AZ | 86442
Western Baptist Hospital | 2501 Kentucky Avenue |  | Paducah | KY | 42003
Western Cardiology | 9191 Grant Street |  | Denver | CO | 80229
Western Medical Center Santa Ana | 1001 North Tustin Avenue |  | Santa Ana | CA | 92705
Western Plains Medical Center | 3001 Avenue A |  | Dodge City | KS | 67801
Westside Regional Medical Center | 8201 West Broward Boulevard |  | Plantation | FL | 33324
Wheaton Franciscan Healthcare-All Saints, Inc | WFHC Clinical Data Management and Analysis | 5000 West Chambers, M229 | Milwaukee | WI | 53210
Wheaton Franciscan Healthcare-St. Francis, Inc | WFHC Clinical Data Management and Analysis | 5000 West Chambers, M229 | Milwaukee | WI | 53210
Wheaton Franciscan Healthcare-St. Joseph, Inc | WFH Clinical Data Management and Analysis | 5000 West Chambers, M229 | Milwaukee | WI | 53210
Wheeling Hospital | 1 Medical Park |  | Wheeling | WV | 26003
White County Medical Center | 3214 E. Race Avenue |  | Searcy | AR | 72143-4810
White Memorial Medical Center | 1720 Cesar E. Chavez Avenue |  | Los Angeles | CA | 90033
White River Medical Center | 1710 Harrison Street |  | Batesville | AR | 72501
William Beaumont Hospital | 54373 Samara Drive |  | Macomb | MI | 48073-2213
William Beaumont Hospita - Troy | 44201 Dequindre Road |  | Troy | MI | 48085
William W. Backus Hospital | 326 Washington Street |  | Norwich | CT | 06360
Willis-Knighton Medical Center | 2600 Greenwood Road |  | Shreveport | LA | 71103
Wilson Memorial Hospital | 915 West Michigan Street |  | Sidney | OH | 45365
Wilson N. Jones Medical Center | 500 N Highland Avenue |  | Sherman | TX | 75092
Winchester Medical Center Inc | 220 Campus Boulevard | Suite 313 | Winchester | VA | 22601
Winter Haven Hospital | 20005 Avenue F Northeast |  | Winter Haven | FL | 33881
Winthrop-University Hospital | 259 First Street |  | Mineola | Ny | 11501
Wise Regional Health System | 609 Medical Center Drive |  | Decatur | TX | 76234
Wishard Health Services Attn: A/P | 1001 W. 10th Street |  | Indianapolis | IN | 46202
Woman's Christian Association Hospital | 207 Foote Avenue |  | Jamestown | NY | 14701
Woodland Healthcare | 1325 Cottonwood Street |  | Woodland | CA | 95695
Woodland Heights Medical Center | 505 S. John Redditt Drive |  | Lufkin | TX | 75904
Wooster Community Hospital | 1761 Beall Avenue |  | Wooster | OH | 44691
Wuesthoff Health System | 110 Longwood Avenue |  | Rockledge | FL | 32956-5002
Wyckoff Heights Medical Center | 374 Stockholm Street | Division of Cardiology -3rd Floor | Brooklyn | NY | 11237
Wyoming Medical Center | 1233 East 2nd Street |  | Casper | WY | 82601-2988
Wyoming Valley Health Care System | 575 North River Street |  | Wilkes-Barre | PA | 18764
Yakima Regional Medical Center/Cardiac Center | 110 S. 9th Avenue |  | Yakima | WA | 98902
Yakima Valley Memorial Hospital | 2811 Tieton Drive |  | Yakima | WA | 98902
Yale New Haven Hospital | 20 York Street |  | New Haven | CT | 06510
Yavapai Regional Medical Center | 1003 Willow Creek Rd |  | Prescott | AZ | 86301
York Hospital | 15 Hospital Drive |  | York | ME | 03909
York Hospital | 1001 South George Street |  | York | PA | 17405
Yuma Regional Medical Center | 2400 S. Avenue A |  | Yuma | AZ | 85364

BILLING CODE 4120-01-P

[FR Doc. E8-30002 Filed 12-29-08; 8:45 am]

BILLING CODE 4120-01-C